DEPARTMENT OF COMMERCE

National Oceanic and Atmospheric Administration

50 CFR Part 679

[Docket No. 150818742-6210-02]

RIN 0648-XE130

Fisheries of the Exclusive Economic Zone Off Alaska; Gulf of Alaska; Final 2016 and 2017 Harvest Specifications for Groundfish

AGENCY: National Marine Fisheries Service (NMFS), National Oceanic and Atmospheric Administration (NOAA), Commerce.

ACTION: Final rule; harvest specifications and closures.

SUMMARY: NMFS announces final 2016 and 2017 harvest specifications, apportionments, and Pacific halibut prohibited species catch limits for the groundfish fishery of the Gulf of Alaska (GOA). This action is necessary to establish harvest limits for groundfish during the 2016 and 2017 fishing years and to accomplish the goals and objectives of the Fishery Management Plan for Groundfish of the Gulf of Alaska. The intended effect of this action is to conserve and manage the groundfish resources in the GOA in accordance with the Magnuson-Stevens Fishery Conservation and Management Act.

DATES: Harvest specifications and closures are effective at 1200 hrs, Alaska local time (A.l.t.), March 18, 2016, through 2400 hrs, A.l.t., December 31, 2017.

ADDRESSES: Electronic copies of the Final Alaska Groundfish Harvest Specifications Environmental Impact Statement (EIS), Record of Decision (ROD), and the Supplementary Information Report (SIR) to the EIS prepared for this action are available from http://alaskafisheries.noaa.gov. The final 2015 Stock Assessment and Fishery Evaluation (SAFE) report for the groundfish resources of the GOA, dated November 2015, is available from the North Pacific Fishery Management Council (Council) at 605 West 4th Avenue, Suite 306, Anchorage, AK 99510-2252, phone 907-271-2809, or from the Council's Web site at http://www.npfmc.org.

FOR FURTHER INFORMATION CONTACT: Obren Davis, 907-586-7228.

SUPPLEMENTARY INFORMATION: NMFS manages the GOA groundfish fisheries in the exclusive economic zone of the GOA under the Fishery Management Plan for Groundfish of the Gulf of Alaska (FMP). The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt). Section 679.20(c)(1) further requires NMFS to publish and solicit public comment on proposed annual TACs, Pacific halibut prohibited species catch (PSC) limits, and seasonal allowances of pollock and Pacific cod. Upon consideration of public comment received under § 679.20(c)(1), NMFS must publish notice of final harvest specifications for up to two fishing years as annual target TAC, per § 679.20(c)(3)(ii). The final harvest specifications set forth in Tables 1 through 30 of this document reflect the outcome of this process, as required at § 679.20(c).

The proposed 2016 and 2017 harvest specifications for groundfish of the GOA and Pacific halibut PSC limits were published in the Federal Register on December 9, 2015 (80 FR 76405). Comments were invited and accepted through January 8, 2016. NMFS received two responses, containing five general categories of comments. A summary of the comments and NMFS's responses is found in the Response to Comment section of this rule. In December 2015, NMFS consulted with the Council regarding the 2016 and 2017 harvest specifications. After considering public testimony, as well as biological and economic data that were available at the Council's December 2015 meeting, NMFS is implementing the final 2016 and 2017 harvest specifications, as recommended by the Council. For 2016, the sum of the TAC amounts is 590,809 mt. For 2017, the sum of the TAC amounts is 573,872 mt.

Other Actions Potentially Affecting the 2016 and 2017 Harvest Specifications

Removal of Pacific Cod Sideboard Limits for Hook-and-Line Catcher/Processors

In May 2015, NMFS published a final rule implementing regulations associated with Amendment 45 to the FMP for Bering Sea/Aleutian Islands King and Tanner Crabs (Amendment 45) (80 FR 28539, May 19, 2015). Pursuant to § 680.22(e)(1)(ii), NMFS will permanently remove Pacific cod sideboard limits applicable to specified hook-and-line catcher/processors (C/P) in the Western and Central GOA regulatory areas once it receives an affidavit affirming that all eligible participants in these regulatory areas recommend removal of the Crab Rationalization Program GOA Pacific cod sideboard limits. NMFS received an affidavit that all eligible fishery participants in the Western and Central GOA recommend removal of these sideboard limits. Therefore, NMFS is permanently removing the sideboard limits and does not establish 2016 and 2017 Pacific cod sideboard limits for the hook-and-line C/P sector. These sideboard limits have been removed from Tables 21 and 22 of this rule.

Revise Maximum Retainable Amounts for Skates

In December 2014, the Council took final action to reduce the maximum retainable amount (MRA) for skates in the Gulf of Alaska (GOA). Per the Council's recommendation, NMFS published a proposed rule to modify regulations that specify the MRA for skates in the GOA (80 FR 39734, July 10, 2015). An MRA is expressed as a percentage and is the maximum amount of a species closed to directed fishing (i.e., skate species) that may be retained on board a vessel relative to the retained amount of other groundfish species or halibut open for directed fishing (basis species). An MRA serves as a management tool to slow the harvest rates of incidental catch species and limit retention up to a maximum percentage of the amount of retained groundfish or halibut on board the vessel. NMFS has established a single MRA percentage for big skate (Raja binoculata), longnose skate (Raja rhina), and for all remaining skate species (Bathyraja spp.). The proposed rule would reduce the MRA for skates in the GOA from 20 percent to 5 percent. The reduced MRA would apply to all vessels directed fishing for groundfish or halibut in the GOA. NMFS anticipates that the proposed regulatory revisions associated with the skate MRA reduction will be effective in 2016.

Acceptable Biological Catch (ABC) and TAC Specifications

In December 2015, the Council, its Advisory Panel (AP), and its Scientific and Statistical Committee (SSC) reviewed the most recent biological and harvest information about the condition of groundfish stocks in the GOA. This information was compiled by the Council's GOA Groundfish Plan Team and was presented in the draft 2015 SAFE report for the GOA groundfish fisheries, dated November 2015 (see ADDRESSES). The SAFE report contains a review of the latest scientific analyses and estimates of each species' biomass and other biological parameters, as well as summaries of the available information on the GOA ecosystem and the economic condition of the groundfish fisheries off Alaska. From these data and analyses, the Plan Team estimates an overfishing level (OFL) and ABC for each species or species group. The 2015 report was made available for public review during the public comment period for the proposed harvest specifications.

In previous years, the greatest changes from the proposed to the final harvest specifications have been based on recent NMFS stock surveys, which provide updated estimates of stock biomass and spatial distribution, and changes to the models used for producing stock assessments. At the November 2015 Plan Team meeting, NMFS scientists presented updated and new survey results, changes to stock assessment models, and accompanying stock assessment estimates for all groundfish species and species groups that are included in the final 2015 SAFE report. The SSC reviewed this information at the December 2015 Council meeting. Changes from the proposed to the final 2016 and 2017 harvest specifications are discussed below.

The final 2016 and 2017 OFLs, ABCs, and TACs are based on the best available biological and socioeconomic information, including projected biomass trends, information on assumed distribution of stock biomass, and revised methods used to calculate stock biomass. The FMP specifies the formulas, or tiers, to be used to compute OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2016 and 2017 OFLs and ABCs recommended by the Plan Team for all groundfish species. The Council adopted the SSC's OFL and ABC recommendations and the AP's TAC recommendations. The final TAC recommendations were based on the ABCs as adjusted for other biological and socioeconomic considerations, including maintaining the sum of all TACs within the required OY range of 116,000 to 800,000 mt.

The Council recommended 2016 and 2017 TACs that are equal to ABCs for pollock, sablefish, deep-water flatfish, rex sole, Pacific ocean perch, northern rockfish, shortraker rockfish, dusky rockfish, rougheye rockfish, demersal shelf rockfish, thornyhead rockfish, big skate, longnose skate, other skates, sculpins, sharks, squids, and octopuses in the GOA. The Council recommended TACs for 2016 and 2017 that are less than the ABCs for Pacific cod, shallow-water flatfish in the Western GOA, arrowtooth flounder, flathead sole in the Western and Central GOA, “other rockfish” in the Southeast Outside district, and Atka mackerel. The Pacific cod TACs are set to accommodate the State of Alaska's (State's) guideline harvest levels (GHLs) for Pacific cod so that the ABCs are not exceeded. The shallow-water flatfish, arrowtooth flounder, and flathead sole TACs are set to allow for increased harvest opportunities for these target species while conserving the halibut PSC limit for use in other, more fully utilized fisheries. The “other rockfish” TAC in the Southeast Outside District (SEO) is set to reduce the amount of discards. The Atka mackerel TAC is set to accommodate incidental catch amounts in other fisheries.

The final 2016 and 2017 harvest specifications approved by the Secretary of Commerce (Secretary) are unchanged from those recommended by the Council and are consistent with the preferred harvest strategy alternative in the EIS (see ADDRESSES). NMFS finds that the Council's recommended OFLs, ABCs, and TACs are consistent with the biological condition of the groundfish stocks as described in the final 2015 SAFE report. NMFS also finds that the Council's recommendations for OFLs, ABCs, and TACs are consistent with the biological condition of groundfish stocks as adjusted for other biological and socioeconomic considerations, including maintaining the total TAC within the OY range. NMFS reviewed the Council's recommended TAC specifications and apportionments, and approves these harvest specifications under 50 CFR 679.20(c)(3)(ii). The apportionment of TAC amounts among gear types and sectors, processing sectors, and seasons is discussed below.

Tables 1 and 2 list the final 2016 and 2017 OFLs, ABCs, TACs, and area apportionments of groundfish in the GOA. The sums of the 2016 and 2017 ABCs are 727,684 mt and 708,629 mt, respectively, which are higher in 2016 and 2017 than the 2015 ABC sum of 685,597 mt (80 FR 10250, February 25, 2015).

Specification and Apportionment of TAC Amounts

NMFS' apportionment of groundfish species is based on the distribution of biomass among the regulatory areas over which NMFS manages the species. Additional regulations govern the apportionment of pollock, Pacific cod, and sablefish. Additional detail on the apportionment of pollock, Pacific cod, and sablefish are described below.

The ABC for the pollock stock in the combined Western, Central, and West Yakutat Regulatory Areas (W/C/WYK) includes the amount for the GHL established by the State for the Prince William Sound (PWS) pollock fishery. The Plan Team, SSC, AP, and Council have recommended that the sum of all State and Federal water pollock removals from the GOA not exceed ABC recommendations. For 2016 and 2017, the SSC recommended and the Council approved the W/C/WYK pollock ABC, including the amount to account for the State's PWS GHL. At the November 2015 Plan Team meeting, State fisheries managers recommended setting the PWS GHL at 2.5 percent of the annual W/C/WYK pollock ABC. For 2016, this yields a PWS pollock GHL of 6,358 mt, an increase of 1,575 mt from the 2015 PWS GHL of 4,783 mt. For 2017, the PWS pollock GHL is 6,264 mt, an increase of 1,481 mt from the 2015 PWS pollock GHL. The 2016 and 2017 pollock ABCs (247,952 mt and 244,280 mt, respectively) are then apportioned between the W/C/WYK management areas, as described below and detailed in Tables 1 and 2.

Apportionments of pollock to the W/C/WYK management areas are considered to be “apportionments of annual catch limit (ACLs)” rather than “ABCs.” This more accurately reflects that such apportionments address management, rather than biological or conservation, concerns. In addition, apportionments of the ACL in this manner allow NMFS to balance any transfer of TAC from one area to another pursuant to § 679.20(a)(5)(iv)(B) to ensure that the area-wide ACL and ABC are not exceeded.

NMFS establishes pollock TACs in the Western, Central, West Yakutat Regulatory Areas, and the Southeast Outside District of the GOA (see Tables 1 and 2). NMFS also establishes seasonal apportionments of the annual pollock TAC in the Western and Central Regulatory Areas of the GOA among Statistical Areas 610, 620, and 630. These apportionments are divided equally among each of the following four seasons: the A season (January 20 through March 10), the B season (March 10 through May 31), the C season (August 25 through October 1), and the D season (October 1 through November 1) (§ 679.23(d)(2)(i) through (iv), and § 679.20(a)(5)(iv)(A) and (B)). Additional detail is provided below; Tables 3 and 4 list these amounts.

The 2016 and 2017 Pacific cod TACs are set to accommodate the State's GHL for Pacific cod in State waters in the Western and Central Regulatory Areas, as well as in PWS. The Plan Team, SSC, AP, and Council recommended that the sum of all State and Federal water Pacific cod removals from the GOA not exceed ABC recommendations. Accordingly, the Council set the 2016 and 2017 Pacific cod TACs in the Western, Central, and Eastern Regulatory Areas to account for State GHLs. Therefore, the 2016 and 2017 Pacific cod TACs are less than the ABCs by the following amounts: (1) Western GOA, 12,151 mt; (2) Central GOA, 12,328 mt; and (3) Eastern GOA, 2,196 mt. These amounts reflect the State's 2016 and 2017 GHLs in these areas, which are 30 percent of the Western GOA ABC and 25 percent of the Eastern and Central ABCs.

NMFS establishes seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)). The Western and Central GOA Pacific cod TACs are allocated among various gear and operational sectors. The Pacific cod sector apportionments are discussed in detail in a subsequent section of this preamble.

The Council's recommendation for sablefish area apportionments takes into account the prohibition on the use of trawl gear in the SEO District of the Eastern Regulatory Area and makes available 5 percent of the combined Eastern Regulatory Area ABCs to trawl gear for use as incidental catch in other groundfish fisheries in the WYK District (§ 679.20(a)(4)(i)). Tables 7 and 8 list the final 2016 and 2017 allocations of sablefish TAC to hook-and-line and trawl gear in the GOA.

Changes From the Proposed 2016 and 2017 Harvest Specifications in the GOA

In October 2015, the Council's recommendations for the proposed 2016 and 2017 harvest specifications (80 FR 76405, December 9, 2015) were based largely on information contained in the final 2014 SAFE report for the GOA groundfish fisheries, dated November 2014 (see ADDRESSES). The Council proposed that the final OFLs, ABCs, and TACs established for the 2016 groundfish fisheries (80 FR 10250, February 25, 2015) be used for the proposed 2016 and 2017 harvest specifications, pending completion and review of the final 2015 SAFE report at its December 2015 meeting.

As described previously, the SSC adopted the final 2016 and 2017 OFLs and ABCs recommended by the Plan Team. The Council adopted the SSC's OFL and ABC recommendations and the AP's TAC recommendations for 2016 and 2017. The final 2016 ABCs are higher than the proposed 2016 ABCs published in the proposed 2016 and 2017 harvest specifications (80 FR 76405, December 9, 2015) for pollock, shallow-water flatfish, arrowtooth flounder, Pacific ocean perch, rougheye rockfish, demersal shelf rockfish, thornyhead rockfish, other rockfish, big skate, sculpins, and octopuses. The final 2016 ABCs are lower than the proposed 2016 and 2017 ABCs for Pacific cod, sablefish, deep-water flatfish, rex sole, flathead sole, northern rockfish, shortraker rockfish, dusky rockfish, longnose skate, other skates, and sharks.

The final 2017 ABCs are higher than the proposed ABCs for shallow-water flatfish, arrowtooth flounder, Pacific ocean perch, rougheye rockfish, demersal shelf rockfish, thornyhead rockfish, other rockfish, big skate, sculpins, and octopuses. The final 2017 ABCs are lower than the proposed ABCs for pollock, Pacific cod, sablefish, deep-water flatfish, rex sole, flathead sole, northern rockfish, shortraker rockfish, dusky rockfish, longnose skate, “other skates,” and sharks. For the remaining target species—Atka mackerel and squids—the Council recommended, and the Secretary approved, the final 2016 and 2017 ABCs that are the same as the proposed 2016 and 2017 ABCs.

Additional information explaining the changes between the proposed and final ABCs is included in the final 2015 SAFE report, which was not available when the Council made its proposed ABC and TAC recommendations in October 2015. At that time, the most recent stock assessment information was contained in the final 2014 SAFE report. The final 2015 SAFE report contains the best and most recent scientific information on the condition of the groundfish stocks, as previously discussed in this preamble, and is available for review (see ADDRESSES). The Council considered the final 2015 SAFE report in December 2015 when it made recommendations for the final 2016 and 2017 harvest specifications. In the GOA, the total final 2016 TAC amount is 590,809 mt, an increase of less than one percent from the total proposed 2016 TAC amount of 590,161 mt. The total final 2017 TAC amount is 573,872 mt, a decrease of 3 percent from the total proposed 2017 TAC amount of 590,161 mt. The following table in this preamble summarizes the difference between the proposed and final TACs. Annual stock assessments incorporate a variety of new or revised inputs, such as survey data or catch information, as well as changes to the statistical models used to estimate a species' biomass and population trend.

Based on changes in the estimates of overall biomass made by stock assessment scientists for 2016 and 2017, as compared to the estimates previously made for 2015 and 2016, the greatest TAC increases are for shallow-water flatfish, Pacific ocean perch, rougheye rockfish, thornyhead rockfish, other rockfish, big skate, and octopuses. Notable increases include those for octopuses and other rockfish. The increase in the octopus ABC and TAC is a result of the increased octopus biomass estimates derived from the 2015 GOA trawl survey. The catch of octopus in the survey was unusually large, with octopus present in more than 15 percent of the survey tows. The estimated octopus biomass for the octopus assemblage is an order of magnitude higher than previous estimates. The rougheye rockfish biomass increase is due to both an increase in the catch in the GOA trawl survey, as well the adoption of a revised statistical model incorporating improvements to growth estimation, and a number of other model changes.

Based on changes in the estimates of biomass, the greatest decreases in TACs are for Pacific cod, sablefish, deep-water flatfish, rex sole, northern rockfish, other skates, and sharks. Notable decreases in TAC include those for deep-water flatfish, rex sole, other skates, and sharks. The GOA trawl survey biomass for deep-water flatfish was the lowest on record. The last full assessment of rex sole was completed in 2011. Incorporating the 2015 trawl survey data and a number of changes to the assessment model resulted in a decrease to estimated biomass, and the corresponding rex sole ABC and TAC. The estimated biomass for other skates decreased due to a combination of the decrease in the survey biomass for other skates and a continue refinement of incorporating a random effects model in the other skates assessment model. Finally, the shark TAC decreased primarily due to the implementation of a random effects model for biomass estimation.

For all other species and species groups, changes from the proposed to the final TACs are within plus or minus five percent of the proposed TACs. These TAC changes correspond to associated changes in the ABCs and TACs, as recommended by the SSC, AP, and Council.

Additionally, based on the Council's recommended changes in setting the TACs at amounts below ABCs, the greatest decreases in TACs are for shallow-water flatfish, arrowtooth flounder, flathead sole, and “other rockfish.” The Council believed, and NMFS concurs, that setting TACs for the three preceding flatfish species equal to ABCs would not reflect anticipated harvest levels accurately, as the Council and NMFS expect halibut PSC limits to constrain these fisheries in 2016 and 2017.

Detailed information providing the basis for the changes described above is contained in the final 2015 SAFE report. The final TACs are based on the best scientific information available. These TACs are specified in compliance with the harvest strategy described in the proposed and final rules for the 2016 and 2017 harvest specifications. The changes in TACs between the proposed rule and this final rule are compared in Table 1a.

Table 1a—Comparison of Proposed and Final 2016 and 2017 GOA Total Allowable Catch Limits
[Values are rounded to the nearest metric ton and percentage]
Species | 2016 and 2017 proposed TAC | 2016 Final TAC | 2016 Final minus 2016 proposed TAC | Percentage difference | 2017 Final TAC | 2017 Final minus 2017 proposed TAC | Percentage difference
Pollock | 257,178 | 257,872 | 694 | 0 | 254,200 | −2,978 | −1
Pacific cod | 75,202 | 71,925 | −3,277 | −4 | 62,150 | −13,052 | −17
Sablefish | 9,558 | 9,087 | −471 | −5 | 8,307 | −1,251 | −13
Shallow-water flatfish | 32,877 | 36,763 | 3,886 | 12 | 34,855 | 1,978 | 6
Deep-water flatfish | 13,177 | 9,226 | −3,951 | −30 | 9,281 | −3,896 | −30
Rex sole | 8,979 | 7,493 | −1,486 | −17 | 7,507 | −1,472 | −16
Arrowtooth flounder | 103,300 | 103,300 | 0 | 0 | 103,300 | 0 | 0
Flathead sole | 27,759 | 27,832 | 73 | 0 | 27,850 | 91 | 0
Pacific ocean perch | 21,436 | 24,437 | 3,001 | 14 | 24,189 | 2,753 | 13
Northern rockfish | 4,721 | 4,004 | −717 | −15 | 3,768 | −953 | −20
Shortraker rockfish | 1,323 | 1,286 | −37 | −3 | 1,286 | −37 | −3
Dusky rockfish | 4,711 | 4,686 | −25 | −1 | 4,284 | −427 | −9
Rougheye rockfish | 1,142 | 1,328 | 186 | 16 | 1,325 | 183 | 16
Demersal shelf rockfish | 225 | 231 | 6 | 3 | 231 | 6 | 3
Thornyhead rockfish | 1,841 | 1,961 | 120 | 7 | 1,961 | 120 | 7
Other rockfish | 1,811 | 2,308 | 497 | 27 | 2,308 | 497 | 27
Atka mackerel | 2,000 | 2,000 | 0 | 0 | 2,000 | 0 | 0
Big skate | 3,255 | 3,814 | 559 | 17 | 3,814 | 559 | 17
Longnose skate | 3,218 | 3,206 | −12 | 0 | 3,206 | −12 | 0
Other skates | 2,235 | 1,919 | −316 | −14 | 1,919 | −316 | −14
Sculpins | 5,569 | 5,591 | 22 | 0 | 5,591 | 22 | 0
Sharks | 5,989 | 4,514 | −1,475 | −25 | 4,514 | −1,475 | −25
Squids | 1,148 | 1,148 | 0 | 0 | 1,148 | 0 | 0
Octopuses | 1,507 | 4,878 | 3,371 | 224 | 4,878 | 3,371 | 224
Total | 590,161 | 590,809 | 648 | 0 | 573,872 | −16,289 | −3

The final 2016 and 2017 TAC recommendations for the GOA are within the OY range established for the GOA and do not exceed the ABC for any species or species group. Tables 1 and 2 list the final OFL, ABC, and TAC amounts for GOA groundfish for 2016 and 2017, respectively.

Table 1—Final 2016 OFLs, ABCs, and TACs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 56,494 | 56,494
| Chirikof (620) | n/a | 124,927 | 124,927
| Kodiak (630) | n/a | 57,183 | 57,183
| WYK (640) | n/a | 9,348 | 9,348
| W/C/WYK (subtotal) | 322,858 | 254,310 | 247,952
| SEO (650) | 13,226 | 9,920 | 9,920
| Total | 336,084 | 264,230 | 257,872
Pacific cod ³ | W | n/a | 40,503 | 28,352
| C | n/a | 49,312 | 36,984
| E | n/a | 8,785 | 6,589
| Total | 116,700 | 98,600 | 71,925
Sablefish ⁴ | W | n/a | 1,272 | 1,272
| C | n/a | 4,023 | 4,023
| WYK | n/a | 1,475 | 1,475
| SEO | n/a | 2,317 | 2,317
| E (WYK and SEO) (subtotal) | n/a | 3,792 | 3,792
| Total | 10,326 | 9,087 | 9,087
Shallow-water flatfish ⁵ | W | n/a | 20,851 | 13,250
| C | n/a | 19,242 | 19,242
| WYK | n/a | 3,177 | 3,177
| SEO | n/a | 1,094 | 1,094
| Total | 54,520 | 44,364 | 36,763
Deep-water flatfish ⁶ | W | n/a | 186 | 186
| C | n/a | 3,495 | 3,495
| WYK | n/a | 2,997 | 2,997
| SEO | n/a | 2,548 | 2,548
| Total | 11,102 | 9,226 | 9,226
Rex sole | W | n/a | 1,315 | 1,315
| C | n/a | 4,445 | 4,445
| WYK | n/a | 766 | 766
| SEO | n/a | 967 | 967
| Total | 9,791 | 7,493 | 7,493
Arrowtooth flounder | W | n/a | 28,183 | 14,500
| C | n/a | 107,981 | 75,000
| WYK | n/a | 37,368 | 6,900
| SEO |  | 12,656 | 6,900
| Total | 219,430 | 186,188 | 103,300
Flathead sole | W | n/a | 11,027 | 8,650
| C | n/a | 20,211 | 15,400
| WYK | n/a | 2,930 | 2,930
| SEO | n/a | 852 | 852
| Total | 42,840 | 35,020 | 27,832
Pacific ocean perch ⁷ | W |  | 2,737 | 2,737
| C |  | 17,033 | 17,033
| WYK |  | 2,847 | 2,847
| W/C/WYK subtotal | 26,313 | 22,617 | 22,617
| SEO | 2,118 | 1,820 | 1,820
| Total | 28,431 | 24,437 | 24,437
Northern rockfish ⁸ | W | n/a | 457 | 457
| C | n/a | 3,547 | 3,547
| E | n/a | 4 |
| Total | 4,783 | 4,004 | 4,004
Shortraker rockfish ⁹ | W | n/a | 38 | 38
| C | n/a | 301 | 301
| E | n/a | 947 | 947
| Total | 1,715 | 1,286 | 1,286
Dusky rockfish ¹⁰ | W | n/a | 173 | 173
| C | n/a | 4,147 | 4,147
| WYK | n/a | 275 | 275
| SEO | n/a | 91 | 91
| Total | 5,733 | 4,686 | 4,686
Rougheye and Blackspotted rockfish ¹¹ | W | n/a | 105 | 105
| C | n/a | 707 | 707
| E | n/a | 516 | 516
| Total | 1,596 | 1,328 | 1,328
Demersal shelf rockfish ¹² | SEO | 364 | 231 | 231
Thornyhead rockfish | W | n/a | 291 | 291
| C | n/a | 988 | 988
| E | n/a | 682 | 682
| Total | 2,615 | 1,961 | 1,961
Other rockfish 13 14 | W and C | n/a | 1,534 | 1,534
| WYK | n/a | 574 | 574
| SEO | n/a | 3,665 | 200
| Total | 7,424 | 5,773 | 2,308
Atka mackerel | GW | 6,200 | 4,700 | 2,000
Big skate ¹⁵ | W | n/a | 908 | 908
| C | n/a | 1,850 | 1,850
| E | n/a | 1,056 | 1,056
| Total | 5,086 | 3,814 | 3,814
Longnose skate ¹⁶ | W | n/a | 61 | 61
| C | n/a | 2,513 | 2,513
| E | n/a | 632 | 632
| Total | 4,274 | 3,206 | 3,206
Other skates ¹⁷ | GW | 2,558 | 1,919 | 1,919
Sculpins | GW | 7,338 | 5,591 | 5,591
Sharks | GW | 6,020 | 4,514 | 4,514
Squids | GW | 1,530 | 1,148 | 1,148
Octopus | GW | 6,504 | 4,878 | 4,878
Total |  | 892,964 | 727,684 | 590,809
¹ Regulatory areas and districts are defined at § 679.2. (W = Western Gulf of Alaska; C = Central Gulf of Alaska; E = Eastern Gulf of Alaska; WYK = West Yakutat District; SEO = Southeast Outside District; GW = Gulf-wide).
² The aggregate pollock ABC for the Western, Central, and West Yakutat Regulatory Areas is apportioned among four statistical areas after deducting 2.5 percent of the ABC for the State's pollock GHL fishery. These apportionments are considered subarea ACLs, rather than ABCs, for specification and reapportionment purposes. The ACLs in Areas 610, 620, and 630 are further divided by season, as detailed in Table 3. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 5 lists the final 2016 Pacific cod seasonal apportionments.
⁴ Sablefish is allocated to trawl and hook-and-line gear in 2016. Table 7 lists the final 2016 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 4 mt apportionment of ABC to the WYK District of the Eastern Gulf of Alaska has been included in the “other rockfish” species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Table 2—Final 2017 OFLs, ABCs, and TACs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 55,657 | 55,657
| Chirikof (620) | n/a | 123,078 | 123,078
| Kodiak (630) | n/a | 56,336 | 56,336
| WYK (640) | n/a | 9,209 | 9,209
| W/C/WYK (subtotal) | 289,937 | 250,544 | 244,280
| SEO (650) | 13,226 | 9,920 | 9,920
| Total | 303,163 | 260,464 | 254,200
Pacific cod ³ | W | n/a | 34,998 | 24,499
| C | n/a | 42,610 | 31,958
| E | n/a | 7,592 | 5,693
| Total | 100,800 | 85,200 | 62,150
Sablefish ⁴ | W | n/a | 1,163 | 1,163
| C | n/a | 3,678 | 3,678
| WYK | n/a | 1,348 | 1,348
| SEO | n/a | 2,118 | 2,118
| E (WYK and SEO) (subtotal) | n/a | 3,466 | 3,466
| Total | 9,825 | 8,307 | 8,307
Shallow-water flatfish ⁵ | W | n/a | 19,159 | 13,250
| C | n/a | 17,680 | 17,680
| WYK | n/a | 2,919 | 2,919
| SEO | n/a | 1,006 | 1,006
| Total | 50,220 | 40,764 | 34,855
Deep-water flatfish ⁶ | W | n/a | 187 | 187
| C | n/a | 3,516 | 3,516
| WYK | n/a | 3,015 | 3,015
| SEO | n/a | 2,563 | 2,563
| Total | 11,168 | 9,281 | 9,281
Rex sole | W | n/a | 1,318 | 1,318
| C | n/a | 4,453 | 4,453
| WYK | n/a | 767 | 767
| SEO | n/a | 969 | 969
| Total | 9,810 | 7,507 | 7,507
Arrowtooth flounder | W | n/a | 28,659 | 14,500
| C | n/a | 109,804 | 75,000
| WYK | n/a | 37,999 | 6,900
| SEO | n/a | 12,870 | 6,900
| Total | 196,714 | 189,332 | 103,300
Flathead sole | W | n/a | 11,080 | 8,650
| C | n/a | 20,307 | 15,400
| WYK | n/a | 2,944 | 2,944
| SEO | n/a | 856 | 856
| Total | 43,060 | 35,187 | 27,850
Pacific ocean perch ⁷ | W |  | 2,709 | 2,709
| C |  | 16,860 | 16,860
| WYK |  | 2,818 | 2,818
| W/C/WYK | 23,876 | 22,387 | 22,387
| SEO | 973 | 1,802 | 1,802
| Total | 28,141 | 24,189 | 24,189
Northern rockfish ⁸ | W | n/a | 430 | 430
| C | n/a | 3,338 | 3,338
| E | n/a | 4 |
| Total | 4,501 | 3,768 | 3,768
Shortraker rockfish ⁹ | W | n/a | 38 | 38
| C | n/a | 301 | 301
| E | n/a | 947 | 947
| Total | 1,715 | 1,286 | 1,286
Dusky rockfish¹⁰ | W | n/a | 159 | 159
| C | n/a | 3,791 | 3,791
| WYK | n/a | 251 | 251
| SEO | n/a | 83 | 83
| Total | 5,253 | 4,284 | 4,284
Rougheye and Blackspotted rockfish ¹¹ | W | n/a | 105 | 105
| C | n/a | 705 | 705
| E | n/a | 515 | 515
| Total | 1,592 | 1,325 | 1,325
Demersal shelf rockfish ¹² | SEO | 364 | 231 | 231
Thornyhead rockfish | W | n/a | 291 | 291
| C | n/a | 988 | 988
| E | n/a | 682 | 682
| Total | 2,615 | 1,961 | 1,961
Other rockfish ¹³ ¹⁴ | W and C | n/a | 1,534 | 1,534
| WYK | n/a | 574 | 574
| SEO | n/a | 3,665 | 200
| Total | 7,424 | 5,773 | 2,308
Atka mackerel | GW | 6,200 | 4,700 | 2,000
Big skate ¹⁵ | W | n/a | 908 | 908
| C | n/a | 1,850 | 1,850
| E | n/a | 1,056 | 1,056
| Total | 5,086 | 3,814 | 3,814
Longnose skate ¹⁶ | W | n/a | 61 | 61
| C | n/a | 2,513 | 2,513
| E | n/a | 632 | 632
| Total | 4,274 | 3,206 | 3,206
Other skates ¹⁷ | GW | 2,558 | 1,919 | 1,919
Sculpins | GW | 7,338 | 5,591 | 5,591
Sharks | GW | 6,020 | 4,514 | 4,514
Squids | GW | 1,530 | 1,148 | 1,148
Octopus | GW | 6,504 | 4,878 | 4,878
Total |  | 815,875 | 708,629 | 573,872
¹ Regulatory areas and districts are defined at § 679.2. (W = Western Gulf of Alaska; C = Central Gulf of Alaska; E = Eastern Gulf of Alaska; WYK = West Yakutat District; SEO = Southeast Outside District; GW = Gulf-wide).
² The aggregate pollock ABC for the Western, Central, and West Yakutat Regulatory Areas is apportioned among four statistical areas after deducting 2.5 percent of the ABC for the State's pollock GHL fishery. These apportionments are considered subarea ACLs, rather than ABCs, for specification and reapportionment purposes. The ACLs in Areas 610, 620, and 630 are further divided by season, as detailed in Table 4. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 6 lists the final 2017 Pacific cod seasonal apportionments.
⁴ Sablefish is only allocated to trawl gear for 2017. Table 8 lists the final 2017 allocation of sablefish TACs to trawl gear.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 4 mt apportionment of ABC to the WYK District of the Eastern Gulf of Alaska has been included in the “other rockfish” species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Apportionment of Reserves

Section 679.20(b)(2) requires NMFS to set aside 20 percent of each TAC for pollock, Pacific cod, flatfish, sculpins, sharks, squids, and octopuses in reserve for possible apportionment at a later date during the fishing year. For 2016 and 2017, NMFS proposed reapportionment of all the reserves in the proposed 2016 and 2017 harvest specifications published in the Federal Register on December 9, 2015 (80 FR 76405). NMFS did not receive any public comments on the proposed reapportionments. For the final 2016 and 2017 harvest specifications, NMFS reapportioned, as proposed, all the reserves for pollock, Pacific cod, flatfish, sculpins, sharks, squids, and octopuses. The TACs listed in Tables 1 and 2 reflect reapportionments of reserve amounts for these species and species groups.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. However, for 2016 and 2017, the Council recommended, and NMFS approves, averaging the winter and summer distribution of pollock in the Central Regulatory Area for the A season instead of using the distribution based on only the winter surveys. The average is intended to reflect the migration patterns and distribution of pollock, and the anticipated performance of the fishery, in that area during the A season for the 2016 and 2017 fishing years. For the A season, the apportionment is based on an adjusted estimate of the relative distribution of pollock biomass of approximately 6 percent, 73 percent, and 21 percent in Statistical Areas 610, 620, and 630, respectively. For the B season, the apportionment is based on the relative distribution of pollock biomass at 6 percent, 85 percent, and 9 percent in Statistical Areas 610, 620, and 630, respectively. For the C and D seasons, the apportionment is based on the relative distribution of pollock biomass at 41 percent, 26 percent, and 33 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the subsequent seasonal apportionment for the statistical area. Any unharvested pollock above the 20-percent limit could be further distributed to the other statistical areas, in proportion to the estimated biomass in the subsequent season in those statistical areas (§ 679.20(a)(5)(iv)(B)). The pollock TACs in the WYK and SEO District of 9,348 mt and 9,920 mt, respectively, in 2016, and 9,209 mt and 9,920 mt, respectively, in 2017, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Tables 3 and 4 list the final 2016 and 2017 seasonal biomass distribution of pollock in the Western and Central Regulatory Areas, area apportionments, and seasonal allowances. The amounts of pollock for processing by the inshore and offshore components are not shown.

Table 3—Final 2016 Distribution of Pollock in the Western and Central Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 3,827 | 6.41% | 43,374 | 72.71% | 12,456 | 20.88% | 59,651
B (Mar 10-May 31) | 3,826 | 6.41% | 50,747 | 85.07% | 5,083 | 8.52% | 59,651
C (Aug 25-Oct 1) | 24,421 | 40.94% | 15,404 | 25.82% | 19,822 | 33.23% | 59,651
D (Oct 1-Nov 1) | 24,421 | 40.94% | 15,402 | 25.82% | 19,822 | 33.23% | 59,651
Annual Total | 56,494 |  | 124,927 |  | 57,183 |  | 238,604
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Table 4—Final 2017 Distribution of Pollock in the Western and Central Regulatory Areas of the GOA; Seasonal Biomass Distribution, Area Apportionments; and Seasonal Allowances of Annual TAC
[Values are rounded to the nearest metric ton and percentages are rounded to the nearest 0.01]
Season ¹ | Shumagin (Area 610) |  | Chirikof (Area 620) |  | Kodiak (Area 630) |  | Total ²
A (Jan 20-Mar 10) | 3,769 | 6.41% | 42,732 | 72.71% | 12,272 | 20.88% | 58,768
B (Mar 10-May 31) | 3,769 | 6.41% | 49,996 | 85.07% | 5,007 | 8.52% | 58,768
C (Aug 25-Oct 1) | 24,060 | 40.94% | 15,176 | 25.82% | 19,529 | 33.23% | 58,768
D (Oct 1-Nov 1) | 24,060 | 40.94% | 15,175 | 25.82% | 19,529 | 33.23% | 58,768
Annual Total | 55,657 |  | 123,078 |  | 56,336 |  | 235,071
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Annual and Seasonal Apportionments of Pacific Cod TAC

Section 679.20(a)(12)(i) requires the allocation of the Pacific cod TACs in the Western and Central Regulatory Areas of the GOA among gear and operational sectors. Section 679.20(a)(6)(ii) requires the allocation of the Pacific cod TACs in the Eastern Regulatory Area of the GOA between the inshore and offshore components. NMFS allocates the 2016 and 2017 Pacific cod TAC based on these sector allocations annually between the inshore and offshore components in the Eastern GOA; seasonally between vessels using jig gear, catcher vessels (CVs) using hook-and-line gear, C/Ps using hook-and-line gear, CVs using trawl gear, and vessels using pot gear in the Western GOA; seasonally between vessels using jig gear, CVs less than 50 feet length overall using hook-and-line gear, CVs greater than or equal to 50 feet length overall using hook-and-line gear, C/Ps using hook-and-line gear, CVs using trawl gear, C/Ps using trawl gear, and vessels using pot gear in the Central GOA. The overall seasonal apportionments in the Western and Central GOA are 60 percent of the annual TAC to the A season and 40 percent of the annual TAC to the B season.

Under § 679.20(a)(12)(ii), any overage or underage of the Pacific cod allowance from the A season will be subtracted from, or added to, the subsequent B season allowance. In addition, any portion of the hook-and-line, trawl, pot, or jig sector allocations that NMFS determines is likely to go unharvested by a sector may be reapportioned to other sectors for harvest during the remainder of the fishery year.

Pursuant to § 679.20(a)(12)(i)(A) and (B), a portion of the annual Pacific cod TACs in the Western and Central GOA will be allocated to vessels with a Federal Fisheries Permit (FFP) that use jig gear before TAC is apportioned among other non-jig sectors. In accordance with the FMP, the annual jig sector allocations may increase to up to 6 percent of the annual Western and Central GOA Pacific cod TACs, depending on the annual performance of the jig sector (See Table 1 of Amendment 83 to the FMP for a detailed discussion of the jig sector allocation process (76 FR 74670, December 1, 2011)). Jig sector allocation increases are established for a minimum of 2 years. NMFS has evaluated the 2015 harvest performance of the jig sector in the Western and Central GOA, and is establishing the 2016 and 2017 Pacific cod apportionments to this sector as follows.

NMFS allocates the jig sector 3.5 percent of the annual Pacific cod TAC in the Western GOA. This is the same amount as the 2015 jig sector allocation, because in 2015 this sector harvested less than 90 percent of the initial 2015 allocation. The 2016 and 2017 allocations include a base allocation of 1.5 percent, and an additional 2.0 percent because this sector harvested greater than 90 percent of its initial 2012 and 2014 allocations in the Western GOA. NMFS also allocates the jig sector 1.0 percent of the annual Pacific cod TAC in the Central GOA. This is the same amount as the 2015 jig sector allocation, because in 2015 this sector harvested less than 90 percent of the initial 2015 allocation. The 2016 and 2017 allocations consist of a base allocation of 1.0 percent and no additional increases in the Central GOA. Tables 5 and 6 list the seasonal apportionments and allocations of the 2016 and 2017 Pacific cod TACs.

Table 5—Final 2016 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 992 | N/A | 595 | N/A | 397
Hook-and-line CV | 383 | 0.70 | 192 | 0.70 | 192
Hook-and-line C/P | 5,417 | 10.90 | 2,982 | 8.90 | 2,435
Trawl CV | 10,506 | 27.70 | 7,579 | 10.70 | 2,927
Trawl C/P | 657 | 0.90 | 246 | 1.50 | 410
All Pot CV and Pot C/P | 10,397 | 19.80 | 5,417 | 18.20 | 4,979
Total | 28,352 | 60.00 | 17,011 | 40.00 | 11,341
Central GOA:
Jig (1.0% of TAC) | 370 | N/A | 222 | N/A | 148
Hook-and-line < 50 CV | 5,347 | 9.32 | 3,411 | 5.29 | 1,936
Hook-and-line ≥ 50 CV | 2,456 | 5.61 | 2,054 | 1.10 | 402
Hook-and-line C/P | 1,869 | 4.11 | 1,504 | 1.00 | 365
Trawl CV¹ | 15,226 | 21.14 | 7,738 | 20.45 | 7,487
Trawl C/P | 1,537 | 2.00 | 734 | 2.19 | 804
All Pot CV and Pot C/P | 10,180 | 17.83 | 6,528 | 9.97 | 3,652
Total | 36,984 | 60.00 | 22,190 | 40.00 | 14,794
Eastern GOA | 6,589 | Inshore (90% of Annual TAC) | 5,930 | Offshore (10% of Annual TAC) | 659
¹ Trawl vessels participating in Rockfish Program cooperatives receive 3.81 percent, or 1,409 mt, of the annual Central GOA TAC (see Table 28c to 50 CFR part 679), which is deducted from the Trawl CV B season allowance (see Table 12).

Table 6—Final 2017 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount.]
Regulatory area and sector | Annual allocation (mt) | A Season: Sector percentage of annual non-jig TAC | A Season: Seasonal allowances (mt) | B Season: Sector percentage of annual non-jig TAC | B Season: Seasonal allowances (mt)
Western GOA:
Jig (3.5% of TAC) | 857 | N/A | 514 | N/A | 343
Hook-and-line CV | 331 | 0.70 | 165 | 0.70 | 165
Hook-and-line C/P | 4,681 | 10.90 | 2,577 | 8.90 | 2,104
Trawl CV | 9,078 | 27.70 | 6,549 | 10.70 | 2,530
Trawl C/P | 567 | 0.90 | 213 | 1.50 | 355
All Pot CV and Pot C/P | 8,984 | 19.80 | 4,681 | 18.20 | 4,303
Total | 24,499 | 60.00 | 14,699 | 40.00 | 9,799
Central GOA:
Jig (1.0% of TAC) | 320 | N/A | 192 | N/A | 128
Hook-and-line < 50 CV | 4,620 | 9.32 | 2,947 | 5.29 | 1,673
Hook-and-line ≥ 50 CV | 2,122 | 5.61 | 1,775 | 1.10 | 347
Hook-and-line C/P | 1,615 | 4.11 | 1,299 | 1.00 | 316
Trawl CV ¹ | 13,156 | 21.14 | 6,687 | 20.45 | 6,470
Trawl C/P | 1,328 | 2.00 | 634 | 2.19 | 694
All Pot CV and Pot C/P | 8,797 | 17.83 | 5,641 | 9.97 | 3,156
Total | 31,958 | 60.00 | 19,175 | 40.00 | 12,783
Eastern GOA |  | Inshore (90% of Annual TAC) |  | Offshore (10% of Annual TAC)
| 5,693 | 5,124 |  | 569
¹ Trawl vessels participating in Rockfish Program cooperatives receive 3.81 percent, or 1,218 mt, of the annual Central GOA TAC (see Table 28c to 50 CFR part 679), which is deducted from the Trawl CV B season allowance (see Table13).

Allocations of the Sablefish TACs Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(4)(i)).

In recognition of the prohibition against trawl gear in the SEO District of the Eastern Regulatory Area, the Council recommended and NMFS approves the allocation of 5 percent of the combined Eastern Regulatory Area sablefish TAC to trawl gear in the WYK District, making the remainder of the WYK sablefish TAC available to vessels using hook-and-line gear. NMFS allocates 100 percent of the sablefish TAC in the SEO District to vessels using hook-and-line gear. This action results in a 2016 allocation of 190 mt to trawl gear and 1,285 mt to hook-and-line gear in the WYK District, a 2016 allocation of 2,317 mt to hook-and-line gear in the SEO District, and a 2017 allocation of 173 mt to trawl gear in the WYK District. Table 7 lists the allocations of the 2016 sablefish TACs to hook-and-line and trawl gear. Table 8 lists the allocations of the 2017 sablefish TACs to trawl gear.

The Council recommended that the hook-and-line sablefish TAC be established annually to ensure that this Individual Fishery Quota (IFQ) fishery is conducted concurrently with the halibut IFQ fishery and is based on recent sablefish survey information. The Council also recommended that only a trawl sablefish TAC be established for two years so that retention of incidental catch of sablefish by trawl gear could commence in January in the second year of the groundfish harvest specifications. Since there is an annual assessment for sablefish and the final harvest specifications are expected to be published before the IFQ season begins March 19, 2016, the Council recommended that the hook-and-line sablefish TAC be set on an annual basis, rather than for two years, so that the best scientific information available could be considered in establishing the sablefish ABCs and TACs. With the exception of the trawl allocations that were provided to the Rockfish Program cooperatives, directed fishing for sablefish with trawl gear is closed during the fishing year. Also, fishing for groundfish with trawl gear is prohibited prior to January 20. Therefore, it is not likely that the sablefish allocation to trawl gear would be reached before the effective date of the final 2016 and 2017 harvest specifications.

Table 7—Final 2016 Sablefish TAC Specifications in the GOA and Allocations to Hook-and-Line and Trawl Gear
[Values are rounded to the nearest metric ton]
Area/District | TAC | Hook-and-line allocation | Trawl allocation
Western | 1,272 | 1,017 | 255
Central | 4,023 | 3,218 | 805
West Yakutat ¹ | 1,475 | 1,285 | 190
Southeast Outside | 2,317 | 2,317 | 0
Total | 9,087 | 7,837 | 1,250
¹ The trawl allocation is based on allocating 5 percent of the combined Eastern Regulatory Area (West Yakutat and Southeast Outside combined) sablefish TAC to trawl gear in the West Yakutat District.

Table 8—Final 2017 Sablefish TAC Specifications in the GOA and Allocation to Trawl Gear ¹
[Values are rounded to the nearest metric ton]
Area/District | TAC | Hook-and-line allocation | Trawl allocation
Western | 1,163 | n/a | 233
Central | 3,678 | n/a | 736
West Yakutat ² | 1,348 | n/a | 173
Southeast Outside | 2,118 | n/a | 0
Total | 8,307 | n/a | 1,142
¹ The Council recommended that harvest specifications for the hook-and-line gear sablefish Individual Fishing Quota fisheries be limited to 1 year.
² The trawl allocation is based on allocating 5 percent of the combined Eastern Regulatory Area (West Yakutat and Southeast Outside combined) sablefish TAC to trawl gear in the West Yakutat District.

Demersal Shelf Rockfish (DSR)

The recommended 2016 and 2017 DSR TAC is 231 mt, and management of DSR is delegated to the State. The Alaska Board of Fish has apportioned the annual SEO District DSR TACs between the commercial fishery (84 percent) and the sport fishery (16 percent) after deductions were made for anticipated subsistence harvests (7 mt). This results in 2016 and 2017 allocations of 188 mt to the commercial fishery and 36 mt to the sport fishery.

The State deducts estimates of incidental catch of DSR in the commercial halibut fishery and test fishery mortality from the DSR commercial fishery allocation. In 2015, this resulted in 32 mt being available for the directed commercial DSR fishery apportioned in one DSR district. The State estimated that there was not sufficient DSR quota available to have orderly fisheries in the three other DSR districts. DSR harvest in the halibut fishery is linked to the annual halibut catch limits; therefore the State can only estimate potential DSR incidental catch because halibut catch limits are established by the International Pacific Halibut Commission (IPHC). Federally permitted CVs using hook-and-line or jig gear fishing for groundfish and Pacific halibut in the SEO District of the GOA are required to retain all DSR (§ 679.20(j)).

Apportionments to the Central GOA Rockfish Program

These final 2016 and 2017 harvest specifications for the GOA include the various fishery cooperative allocations and sideboard limitations established by the Central GOA Rockfish Program. Program participants are primarily trawl CVs and trawl C/Ps, with limited participation by vessels using longline gear. The Rockfish Program assigns quota share and cooperative quota to participants for primary and secondary species, allows participants holding a license limitation program (LLP) license with rockfish quota share to form a rockfish cooperative, and allows holders of C/P LLP licenses to opt out of the fishery. The Rockfish Program also has an entry level fishery for rockfish primary species for vessels using longline gear.

Under the Rockfish Program, rockfish primary species (Pacific ocean perch, northern rockfish, and dusky rockfish) in the Central GOA are allocated to participants after deducting for incidental catch needs in other directed groundfish fisheries. Participants in the Rockfish Program also receive a portion of the Central GOA TAC of specific secondary species (Pacific cod, rougheye rockfish, sablefish, shortraker rockfish, and thornyhead rockfish).

Additionally, the Rockfish Program establishes sideboard limits to restrict the ability of harvesters operating under the Rockfish Program to increase their participation in other, non-Rockfish Program fisheries. Besides groundfish species, the Rockfish Program allocates a portion of the trawl halibut PSC limit (191 mt) from the third season deep-water species fishery allowance for the GOA trawl fisheries to Rockfish Program participants (§ 679.81(d)), which includes 117 mt to the trawl CV sector and 74 mt to the trawl C/P sector.

Section 679.81(a)(2)(ii) requires allocations of 5 mt of Pacific ocean perch, 5 mt of northern rockfish, and 30 mt of dusky rockfish to the entry level longline fishery in 2016 and 2017. The allocation for the entry level longline fishery would increase incrementally each year if the catch exceeds 90 percent of the allocation of a species. The incremental increase in the allocation would continue each year until it is the maximum percent of the TAC for that species. In 2015, the catch did not exceed 90 percent of any allocated rockfish species. Therefore, NMFS is not increasing the entry level longline fishery 2016 and 2017 allocations in the Central GOA. Longline gear includes hook-and-line, jig, troll, and handline gear. The remainder of the TACs for the rockfish primary species would be allocated to the CV and C/P cooperatives. Table 9 lists the allocations of the 2016 and 2017 TACs for each rockfish primary species to the entry level longline fishery, the incremental increase for future years, and the maximum percent of the TAC for the entry level longline fishery.

Table 9—Final 2016 and Initial 2017 Allocations of Rockfish Primary Species to the Entry Level Longline Fishery in the Central Gulf of Alaska
Rockfish primary species | 2016 and 2017 allocations | Incremental increase in 2017 if ≥ 90% of 2016 allocation is harvested | Up to maximum % of TAC
Pacific ocean perch | 5 metric tons | 5 metric tons | 1%
Northern rockfish | 5 metric tons | 5 metric tons | 2%
Dusky rockfish | 30 metric tons | 20 metric tons | 5%

Section 679.81(a)(2) requires allocations of the rockfish primary species among various sectors of the Rockfish Program. Tables 10 and 11 list the final 2016 and 2017 allocations of rockfish primary species in the Central GOA to the entry level longline fishery and Rockfish CV and C/P Cooperatives in the Rockfish Program. NMFS also is setting aside incidental catch amounts (ICAs) for other directed fisheries in the Central GOA of 2,000 mt of Pacific ocean perch, 200 mt of northern rockfish, and 250 mt of dusky rockfish. These amounts are based on recent average incidental catches in the Central GOA by other groundfish fisheries.

Allocations among vessels belonging to CV or C/P cooperatives are not included in these final harvest specifications. Rockfish Program applications for CV cooperatives and C/P cooperatives are not due to NMFS until March 1 of each calendar year, therefore, NMFS cannot calculate 2016 and 2017 allocations in conjunction with these final harvest specifications. NMFS will post these allocations on the Alaska Region Web site at http://alaskafisheries.noaa.gov/fisheries/central-goa-rockfish-program when they become available after March 1.

Table 10—Final 2016 Allocations of Rockfish Primary Species in the Central Gulf of Alaska to the Entry Level Longline Fishery and Rockfish Cooperatives in the Rockfish Program
[Values are rounded to the nearest metric ton]
Rockfish primary species | TAC | Incidental catch allowance | TAC minus ICA | Allocation to the entry level longline¹ fishery | Allocation to the Rockfish Cooperatives ²
Pacific ocean perch | 17,033 | 1,500 | 15,533 | 5 | 15,528
Northern rockfish | 3,547 | 300 | 3,247 | 5 | 3,242
Dusky rockfish | 4,147 | 250 | 3,897 | 30 | 3,867
Total | 24,727 | 2,050 | 22,677 | 40 | 22,637
¹ Longline gear includes hook-and-line, jig, troll, and handline gear.
² Rockfish Cooperatives include vessels in CV and C/P cooperatives.

Table 11—Final 2017 Allocations of Rockfish Primary Species in the Central Gulf of Alaska to the Entry Level Longline Fishery and Rockfish Cooperatives in the Rockfish Program
[Values are rounded to the nearest metric ton]
Rockfish primary species | TAC | Incidental catch allowance | TAC minus ICA | Allocation to the entry level longline¹ fishery | Allocation to the Rockfish Cooperatives ²
Pacific ocean perch | 16,860 | 1,500 | 15,360 | 5 | 15,355
Northern rockfish | 3,338 | 300 | 3,038 | 5 | 3,033
Dusky rockfish | 3,791 | 250 | 3,541 | 30 | 3,511
Total | 23,989 | 2,050 | 21,939 | 40 | 21,899
¹ Longline gear includes hook-and-line, jig, troll, and handline gear.
² Rockfish Cooperatives include vessels in CV and C/P cooperatives.

Section 679.81(c) requires allocations of rockfish secondary species to CV and C/P cooperatives in the Central GOA. CV cooperatives receive allocations of Pacific cod, sablefish from the trawl gear allocation, and thornyhead rockfish. C/P cooperatives receive allocations of sablefish from the trawl allocation, rougheye rockfish, shortraker rockfish, and thornyhead rockfish. Tables 12 and 13 list the apportionments of the 2016 and 2017 TACs of rockfish secondary species in the Central GOA to CV and C/P cooperatives.

Table 12—Final 2016 Apportionments of Rockfish Secondary Species in the Central GOA to Catcher Vessel and Catcher/Processor Cooperatives
[Values are rounded to the nearest metric ton]
Rockfish secondary species | Annual Central GOA TAC | Catcher vessel cooperatives: Percentage of TAC | Catcher vessel cooperatives: Apportionment (mt) | Catcher/processor cooperatives: Percentage of TAC | Catcher/processor cooperatives: Apportionment (mt)
Pacific cod | 36,984 | 3.81 | 1,409 | 0.00 |
Sablefish | 4,023 | 6.78 | 273 | 3.51 | 141
Shortraker rockfish | 301 | 0.00 |  | 40.00 | 120
Rougheye rockfish | 707 | 0.00 |  | 58.87 | 416
Thornyhead rockfish | 988 | 7.84 | 77 | 26.50 | 262

Table 13—Final 2017 Apportionments of Rockfish Secondary Species in the Central GOA to Catcher Vessel and Cather/Processor Cooperatives
[Values are rounded to the nearest metric ton]
Rockfish secondary species | Annual Central GOA TAC | Catcher vessel cooperatives: Percentage of TAC | Catcher vessel cooperatives: Apportionment (mt) | Catcher/processor cooperatives: Percentage of TAC | Catcher/processor cooperatives: Apportionment (mt)
Pacific cod | 31,958 | 3.81 | 1,218 | 0.00 |
Sablefish | 3,678 | 6.78 | 249 | 3.51 | 129
Shortraker rockfish | 301 | 0.00 |  | 40.00 | 120
Rougheye rockfish | 705 | 0.00 |  | 58.87 | 415
Thornyhead rockfish | 988 | 7.84 | 77 | 26.50 | 262

Halibut PSC Limits

Section 679.21(d) establishes the annual halibut PSC limit apportionments to trawl and hook-and-line gear, and authorizes the establishment of apportionments for pot gear. Amendment 95 to the FMP (79 FR 9625, February 20, 2014) implemented measures establishing GOA halibut PSC limits in Federal regulations and reducing the halibut PSC limits in the GOA trawl and hook-and-line groundfish fisheries. These reductions are incorporated into the final 2016 and 2017 halibut PSC limits. For most gear and operational types, the halibut PSC limit reductions were phased-in over 3 years, beginning in 2014 and ending in 2016. The final reduction to PSC limits in 2016 will carry forward to 2017 and subsequent years. In December 2015, the Council incorporated these reductions into its recommended final PSC limits of 1,706 mt for trawl gear, 256 mt for hook-and-line gear, and 9 mt for the DSR fishery.

The DSR fishery in the SEO District is defined at § 679.21(d)(2)(ii)(A). This fishery is apportioned 9 mt of the halibut PSC limit in recognition of its small-scale harvests of groundfish. NMFS estimates low halibut bycatch in the DSR fishery because (1) the duration of the DSR fisheries and the gear soak times are short, (2) the DSR fishery occurs in the winter when less overlap occurs in the distribution of DSR and halibut, and (3) the directed commercial DSR fishery has a low DSR TAC.

The FMP authorizes the Council to exempt specific gear from the halibut PSC limits. NMFS, after consultation with the Council, exempts pot gear, jig gear, and the sablefish IFQ hook-and-line gear fishery categories from the non-trawl halibut PSC limit for 2016 and 2017. The Council recommended, and NMFS approves, these exemptions because (1) the pot gear fisheries have low annual halibut bycatch mortality; (2) IFQ program regulations prohibit discard of halibut if any halibut IFQ permit holder on board a catcher vessel holds unused halibut IFQ (§ 679.7(f)(11)); (3) sablefish IFQ fishermen typically hold halibut IFQ permits and are therefore required to retain the halibut they catch while fishing sablefish IFQ; and (4) NMFS estimates negligible halibut mortality for the jig gear fisheries. NMFS estimates that halibut mortality is negligible in the jig gear fisheries given the small amount of groundfish harvested by jig gear, the selective nature of jig gear, and the high survival rates of halibut caught and released with jig gear.

The best available information on estimated halibut bycatch consists of data collected by fisheries observers during 2015. The calculated halibut bycatch mortality through December 12, 2015, is 1,409 mt for trawl gear and 213 mt for hook-and-line gear for a total halibut mortality of 1,622 mt. This halibut mortality was calculated using groundfish and halibut catch data from the NMFS Alaska Region's catch accounting system. This accounting system contains historical and recent catch information compiled from each Alaska groundfish fishery.

Section 679.21(d)(4)(i) and (ii) authorizes NMFS to seasonally apportion the halibut PSC limits after consultation with the Council. The FMP and regulations require the Council and NMFS to consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The Council considered information from the 2015 SAFE report, NMFS catch data, State of Alaska catch data, IPHC stock assessment and mortality data, and public testimony when apportioning the halibut PSC limits. NMFS concurs with the Council's recommendations listed in Table 14, which show the final 2016 and 2017 Pacific halibut PSC limits, allowances, and apportionments.

Sections 679.21(d)(4)(iii) and (iv) specify that any underages or overages of a seasonal apportionment of a PSC limit will be deducted from or added to the next respective seasonal apportionment within the fishing year.

Table 14—Final 2016 and 2017 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 469 | January 1-June 10 | 86 | 221 | January 1-December 31 | 9
April 1-July 1 | 20 | 341 | June 10-September 1 | 2 | 5 |  |
July 1-September 1 | 30 | 512 | September 1-December 31 | 12 | 31 |  |
September 1-October 1 | 7.5 | 128 |  |  |  |  |
October 1-December 31 | 15 | 256 |  |  |  |  |
Total |  | 1,706 |  |  | 257 |  | 9
¹ The Pacific halibut prohibited species catch (PSC) limit for hook-and-line gear is allocated to the demersal shelf rockfish (DSR) fishery and fisheries other than DSR. The hook-and-line sablefish fishery is exempt from halibut PSC limits, as are pot and jig gear for all groundfish fisheries. Note: Seasonal or sector apportionments may not total precisely due to rounding.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species fishery, composed of sablefish, rockfish, deep-water flatfish, rex sole, and arrowtooth flounder; and (2) a shallow-water species fishery, composed of pollock, Pacific cod, shallow-water flatfish, flathead sole, Atka mackerel, skates, and “other species” (sculpins, sharks, squids, and octopuses) (§ 679.21(d)(3)(iii)). Table 15 lists the final 2016 and 2017 apportionments of halibut PSC trawl limits between the trawl gear deep-water and the shallow-water species fishery categories.

Table 28d to 50 CFR part 679 specifies the amount of the trawl halibut PSC limit that is assigned to the CV and C/P sectors that are participating in the Central GOA Rockfish Program. This includes 117 mt of halibut PSC limit to the CV sector and 74 mt of halibut PSC limit to the C/P sector. These amounts are allocated from the trawl deep-water species fishery's halibut PSC third seasonal apportionment.

Section 679.21(d)(4)(iii)(B) limits the amount of the halibut PSC limit allocated to Rockfish Program participants that could be re-apportioned to the general GOA trawl fisheries to no more than 55 percent of the unused annual halibut PSC apportioned to Rockfish Program participants. The remainder of the unused Rockfish Program halibut PSC limit is unavailable for use by vessels directed fishing with trawl gear for the remainder of the fishing year.

Table 15—Final 2016 and 2017 Apportionment of Pacific Halibut PSC Trawl Limits Between the Trawl Gear Deep-Water Species Fishery and the Shallow-Water Species Fishery Categories
[Values are in metric tons]
Season | Shallow-water | Deep-water ¹ | Total
January 20-April 1 | 384 | 85 | 469
April 1-July 1 | 85 | 256 | 341
July 1-September 1 | 171 | 341 | 512
September 1-October 1 | 128 | Any remainder | 128
Subtotal January 20-October 1 | 768 | 682 | 1,450
October 1-December 31² |  |  | 256
Total |  |  | 1,706
¹ Vessels participating in cooperatives in the Central GOA Rockfish Program will receive 191 mt of the third season (July 1 through September 1) deep-water species fishery halibut PSC apportionment.
² There is no apportionment between trawl shallow-water and deep-water species fishery categories during the fifth season (October 1 through December 31).

Section 679.21(d)(2)(i)(B) requires that the “other hook-and-line fishery” halibut PSC limit apportionment to vessels using hook-and-line gear must be apportioned between CVs and C/Ps in accordance with § 679.21(d)(2)(iii) in conjunction with these harvest specifications. A comprehensive description and example of the calculations necessary to apportion the “other hook-and-line fishery” halibut PSC limit between the hook-and-line CV and C/P sectors were included in the proposed rule to implement Amendment 83 (76 FR 44700, July 26, 2011) and are not repeated here.

Pursuant to § 679.21(d)(2)(iii), the hook-and-line halibut PSC limit is apportioned between the CV and C/P sectors in proportion to the total Western and Central GOA Pacific cod allocations, which vary annually based on the proportion of the Pacific cod biomass. Pacific cod is apportioned among these two management areas based on the percentage of overall biomass per area, as calculated in the 2015 Pacific cod stock assessment. Updated information in the final 2015 SAFE report describes this distributional change, which is based on allocating ABC among regulatory areas on the basis of the three most recent stock surveys. The distribution of the total GOA Pacific cod ABC has changed to 41 percent Western GOA, 50 percent Central GOA, and 9 percent Eastern GOA. Therefore, the calculations made in accordance with § 679.21(d)(2)(iii) incorporate the most recent change in GOA Pacific cod distribution with respect to establishing the annual halibut PSC limits for the CV and C/P hook-and-line sectors. The annual halibut PSC limits are divided into three seasonal apportionments, using seasonal percentages of 86 percent, 2 percent, and 12 percent.

For 2016 and 2017, NMFS apportions halibut PSC limits of 128 mt and 129 mt to the hook-and-line CV and hook-and-line C/P sectors, respectively. Table 16 lists the final 2016 and 2017 apportionments of halibut PSC limits between the hook-and-line CV and hook-and-line C/P sectors.

No later than November 1 of each year, NMFS will calculate the projected unused amount of halibut PSC limit by either of the hook-and-line sectors for the remainder of the year. The projected unused amount of halibut PSC limit is made available to the other hook-and-line sector for the remainder of that fishing year if NMFS determines that an additional amount of halibut PSC is necessary for that sector to continue its directed fishing operations (§ 679.21(d)(2)(iii)(C)).

Table 16—Final 2016 and 2017 Apportionments of the “Other Hook-and-Line Fisheries” Annual Halibut PSC Allowance Between the Hook-and-Line Gear Catcher Vessel and Catcher/Processor Sectors
[Values are in metric tons]
“Other than DSR” allowance | Hook-and-line sector | Sector annual amount | Season | Seasonal percentage | Sector seasonal amount
257 | Catcher Vessel | 129 | January 1-June 10 | 86 | 111
|  |  | June 10-September 1 | 2 | 3
|  |  | September 1-December 31 | 12 | 15
| Catcher/Processor | 128 | January 1-June 10 | 86 | 110
|  |  | June 10-September 1 | 2 | 3
|  |  | September 1-December 31 | 12 | 15

Estimates of Halibut Biomass and Stock Condition

The IPHC annually assesses the abundance and potential yield of the Pacific halibut using all available data from the commercial and sport fisheries, other removals, and scientific surveys. Additional information on the Pacific halibut stock assessment may be found in the IPHC's 2015 Pacific halibut stock assessment (December 2015), available on the IPHC Web site at www.iphc.int. The IPHC considered the 2015 Pacific halibut stock assessment at its January 2016 annual meeting when it set the 2016 commercial halibut fishery catch limits.

Halibut Discard Mortality Rates

To monitor halibut bycatch mortality allowances and apportionments, the Regional Administrator uses observed halibut incidental catch rates, discard mortality rates (DMRs), and estimates of groundfish catch to project when a fishery's halibut bycatch mortality allowance or seasonal apportionment is reached. The DMRs are based on the best information available, including information contained in the annual SAFE report.

NMFS is implementing the halibut DMRs developed and recommended by the International Pacific Halibut Commission (IPHC) and the Council for the 2016 and 2017 GOA groundfish fisheries for use in monitoring the 2016 and 2017 halibut bycatch allowances (see Tables 14, 15 and 16). The IPHC developed these DMRs for the 2016 and 2017 GOA fisheries using the 10-year mean DMRs for those fisheries. Long-term average DMRs were not available for some fisheries, so rates from the most recent years were used. For the skate, sculpin, shark, squid, and octopus target fisheries, where not enough halibut mortality data are available, the mortality rate of halibut caught in the Pacific cod fishery for that gear type was recommended as a default rate. The IPHC and Council staff will analyze observer data annually and recommend changes to the DMRs when a fishery DMR shows large variation from the mean. A discussion of the DMRs and how they are established is available from the Council (see ADDRESSES). Table 17 lists the final 2016 and 2017 DMRs.

Table 17—Final 2016 and 2017 Halibut Discard Mortality Rates for Vessels Fishing in the Gulf of Alaska
[Values are percent of halibut assumed to be dead]
Gear | Target fishery | Mortality rate (%)
Hook-and-line | Other fisheries¹ | 10
| Pacific cod | 10
| Rockfish | 10
Trawl | Arrowtooth flounder | 76
| Deep-water flatfish | 62
| Flathead sole | 67
| Non-pelagic pollock | 58
| Other fisheries¹ | 62
| Pacific cod | 62
| Pelagic pollock | 65
| Rex sole | 72
| Rockfish | 65
| Sablefish | 59
| Shallow-water flatfish | 66
Pot | Other fisheries¹ | 15
| Pacific cod | 15
¹ Other fisheries includes all gear types for skates, sculpins, sharks, squids, octopuses, and hook-and-line sablefish.

Chinook Salmon Prohibited Species Catch Limits

Amendment 93 to the GOA FMP (77 FR 42629, July 20, 2012) established separate Chinook salmon PSC limits in the Western and Central GOA in the directed pollock fishery. These limits require NMFS to close the pollock directed fishery in the Western and Central regulatory areas of the GOA if the applicable limit is reached (§ 679.21(h)(6)). The annual Chinook salmon PSC limits in the pollock directed fishery of 6,684 salmon in the Western GOA and 18,316 salmon in the Central GOA are set at § 679.21(h)(2)(i) and (ii). In addition, all salmon (regardless of species) taken in the pollock directed fisheries in the Western and Central GOA must be retained until the manager of a shoreside processor or stationary floating processor has accurately recorded the number of salmon by species in the eLandings groundfish landing report; and if an observer is present at the processing facility that takes delivery of the catch, the observer is provided an opportunity to count the number of salmon and to collect any scientific data or biological samples from the salmon (§ 679.21(h)(4)).

Amendment 97 to the FMP (79 FR 71350, December 2, 2014) established an initial annual PSC limit of 7,500 Chinook salmon for the non-pollock groundfish fisheries. This limit is apportioned among three sectors: 3,600 Chinook salmon to trawl C/Ps, 1,200 Chinook salmon to trawl catcher vessels participating in the Central GOA Rockfish Program, and 2,700 Chinook salmon to trawl catcher vessels not participating in the Central GOA Rockfish Program that are fishing for groundfish species other than pollock (§ 679.21(i)(3)). NMFS will monitor the Chinook salmon PSC in the non-pollock GOA groundfish fisheries and close an applicable sector if it reaches its Chinook salmon PSC limit.

The Chinook salmon PSC limit for two sectors, trawl C/Ps and trawl catcher vessels not participating in the Central GOA Rockfish Program, may be increased in subsequent years based on the performance of these two sectors and their ability to minimize their use of their respective Chinook salmon PSC limits. If either or both of these two sectors limits its use of Chinook salmon PSC to a specified threshold amount in 2015, that sector will receive an incremental increase to its 2016 Chinook salmon PSC limit (§ 679.21(i)(3)). In 2015, the trawl C/P sector did not exceed 3,120 Chinook salmon PSC; therefore the 2016 trawl C/Ps Chinook salmon PSC limit will be 4,080 Chinook salmon. In 2015, the Non-Rockfish Program catcher vessel sector exceeded 2,340 Chinook salmon PSC; therefore the 2016 Non-Rockfish Program catcher vessel sector limit will be 2,700 Chinook salmon.

American Fisheries Act (AFA) Catcher/Processor and Catcher Vessel Groundfish Harvest and PSC Limits

Section 679.64 establishes groundfish harvesting and processing sideboard limitations on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of groundfish in the GOA. Additionally, § 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands less than 5,100 mt, and have made at least 40 groundfish landings from 1995 through 1997 are exempt from GOA sideboard limits under § 679.64(b)(2)(ii). Sideboard limits for non-exempt AFA CVs in the GOA are based on their traditional harvest levels of TAC in groundfish fisheries covered by the FMP. Section 679.64(b)(3)(iv) establishes the groundfish sideboard limitations in the GOA based on the retained catch of non-exempt AFA CVs of each sideboard species from 1995 through 1997 divided by the TAC for that species over the same period.

Tables 18 and 19 list the final 2016 and 2017 groundfish sideboard limits for non-exempt AFA CVs. NMFS will deduct all targeted or incidental catch of sideboard species made by non-exempt AFA CVs from the sideboard limits listed in Tables 18 and 19.

Table 18—Final 2016 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2016 TACs | Final 2016 non-exempt AFA CV sideboard limit
Pollock | A Season, January 20-March 10 | Shumagin (610) | 0.6047 | 3,827 | 2,314
|  | Chirikof (620) | 0.1167 | 43,374 | 5,062
|  | Kodiak (630) | 0.2028 | 12,456 | 2,526
| B Season, March 10-May 31 | Shumagin (610) | 0.6047 | 3,826 | 2,313
|  | Chirikof (620) | 0.1167 | 50,747 | 5,922
|  | Kodiak (630) | 0.2028 | 5,083 | 1,031
| C Season, August 25-October 1 | Shumagin (610) | 0.6047 | 24,421 | 14,767
|  | Chirikof (620) | 0.1167 | 15,404 | 1,798
|  | Kodiak (630) | 0.2028 | 19,822 | 4,020
| D Season, October 1-November 1 | Shumagin (610) | 0.6047 | 24,421 | 14,767
|  | Chirikof (620) | 0.1167 | 15,402 | 1,797
|  | Kodiak (630) | 0.2028 | 19,822 | 4,020
| Annual | WYK (640) | 0.3495 | 9,348 | 3,267
|  | SEO (650) | 0.3495 | 9,920 | 3,467
Pacific cod | A Season,¹ January 1-June 10 | W | 0.1331 | 17,011 | 2,264
|  | C | 0.0692 | 22,190 | 1,536
| B Season,² September 1-December 31 | W | 0.1331 | 11,341 | 1,509
|  | C | 0.0692 | 14,794 | 1,024
| Annual | E inshore | 0.0079 | 5,930 | 47
|  | E offshore | 0.0078 | 659 | 5
Sablefish | Annual, trawl gear | W | 0.0000 | 255 |
|  | C | 0.0642 | 805 | 52
|  | E | 0.0433 | 190 | 8
Flatfish, Shallow-water | Annual | W | 0.0156 | 13,250 | 207
|  | C | 0.0587 | 19,242 | 1,130
|  | E | 0.0126 | 4,271 | 54
Flatfish, deep-water | Annual | W | 0.0000 | 186 |
|  | C | 0.0647 | 3,495 | 226
|  | E | 0.0128 | 5,545 | 71
Rex sole | Annual | W | 0.0007 | 1,315 | 1
|  | C | 0.0384 | 4,445 | 171
|  | E | 0.0029 | 1,733 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 3,782 | 3
Pacific ocean perch | Annual | W | 0.0023 | 2,737 | 6
|  | C | 0.0748 | 17,033 | 1,274
|  | E | 0.0466 | 4,667 | 217
Northern rockfish | Annual | W | 0.0003 | 457 | 0
|  | C | 0.0277 | 3,547 | 98
Shortraker rockfish | Annual | W | 0.0000 | 38 |
|  | C | 0.0218 | 301 | 7
|  | E | 0.0110 | 947 | 10
Dusky rockfish | Annual | W | 0.0001 | 173 | 0
|  | C | 0.0000 | 4,147 |
|  | E | 0.0067 | 366 | 2
Rougheye rockfish | Annual | W | 0.0000 | 105 |
|  | C | 0.0237 | 707 | 17
|  | E | 0.0124 | 516 | 6
Demersal shelf rockfish | Annual | SEO | 0.0020 | 231 | 0
Thornyhead rockfish | Annual | W | 0.0280 | 291 | 8
|  | C | 0.0280 | 988 | 28
|  | E | 0.0280 | 682 | 19
Other rockfish | Annual | C | 0.1699 | 1,534 | 261
|  | E | 0.0000 | 774 |
Atka mackerel | Annual | Gulfwide | 0.0309 | 2,000 | 62
Big skates | Annual | W | 0.0063 | 908 | 6
|  | C | 0.0063 | 1,850 | 12
|  | E | 0.0063 | 1,056 | 7
Longnose skates | Annual | W | 0.0063 | 61 | 0
|  | C | 0.0063 | 2,513 | 16
|  | E | 0.0063 | 632 | 4
Other skates | Annual | Gulfwide | 0.0063 | 1,919 | 12
Sculpins | Annual | Gulfwide | 0.0063 | 5,591 | 35
Sharks | Annual | Gulfwide | 0.0063 | 4,514 | 28
Squids | Annual | Gulfwide | 0.0063 | 1,148 | 7
Octopuses | Annual | Gulfwide | 0.0063 | 4,878 | 31
¹ The Pacific cod A season for trawl gear does not open until January 20.
² The Pacific cod B season for trawl gear closes November 1.

Table 19—Final 2017 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2017 TACs | Final 2017 non-exempt AFA CV sideboard limit
Pollock | A Season, January 20-March 10 | Shumagin (610) | 0.6047 | 3,769 | 2,279
|  | Chirikof (620) | 0.1167 | 42,732 | 4,987
|  | Kodiak (630) | 0.2028 | 12,272 | 2,489
| B Season, March 10-May 31 | Shumagin (610) | 0.6047 | 3,769 | 2,279
|  | Chirikof (620) | 0.1167 | 49,996 | 5,835
|  | Kodiak (630) | 0.2028 | 5,007 | 1,015
| C Season, August 25-October 1 | Shumagin (610) | 0.6047 | 24,060 | 14,549
|  | Chirikof (620) | 0.1167 | 15,176 | 1,771
|  | Kodiak (630) | 0.2028 | 19,529 | 3,960
| D Season, October 1-November 1 | Shumagin (610) | 0.6047 | 24,060 | 14,549
|  | Chirikof (620) | 0.1167 | 15,175 | 1,771
|  | Kodiak (630) | 0.2028 | 19,529 | 3,960
| Annual | WYK (640) | 0.3495 | 9,209 | 3,219
|  | SEO (650) | 0.3495 | 9,920 | 3,467
Pacific cod | A Season,¹ January 1-June 10 | W | 0.1331 | 14,699 | 1,956
|  | C | 0.0692 | 19,175 | 1,327
| B Season,² September 1-December 31 | W | 0.1331 | 9,799 | 1,304
|  | C | 0.0692 | 12,783 | 885
| Annual | E inshore | 0.0079 | 5,124 | 40
|  | E offshore | 0.0078 | 569 | 4
Sablefish | Annual, trawl gear | W | 0.0000 | 233 |
|  | C | 0.0642 | 736 | 47
|  | E | 0.0433 | 173 | 8
Flatfish, Shallow-water | Annual | W | 0.0156 | 13,250 | 207
|  | C | 0.0587 | 17,680 | 1,038
|  | E | 0.0126 | 3,925 | 49
Flatfish, deep-water | Annual | W | 0.0000 | 187 |
|  | C | 0.0647 | 3,516 | 227
|  | E | 0.0128 | 5,578 | 71
Rex sole | Annual | W | 0.0007 | 1,318 | 1
|  | C | 0.0384 | 4,453 | 171
|  | E | 0.0029 | 1,736 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 3,800 | 3
Pacific ocean perch | Annual | W | 0.0023 | 2,709 | 6
|  | C | 0.0748 | 16,860 | 1,261
|  | E | 0.0466 | 4,620 | 215
Northern rockfish | Annual | W | 0.0003 | 430 | 0
|  | C | 0.0277 | 3,338 | 92
Shortraker rockfish | Annual | W | 0.0000 | 38 |
|  | C | 0.0218 | 301 | 7
|  | E | 0.0110 | 947 | 10
Dusky rockfish | Annual | W | 0.0001 | 159 | 0
|  | C | 0.0000 | 3,791 |
|  | E | 0.0067 | 334 | 2
Rougheye rockfish | Annual | W | 0.0000 | 105 |
|  | C | 0.0237 | 705 | 17
|  | E | 0.0124 | 515 | 6
Demersal shelf rockfish | Annual | SEO | 0.0020 | 231 | 0
Thornyhead rockfish | Annual | W | 0.0280 | 291 | 8
|  | C | 0.0280 | 988 | 28
|  | E | 0.0280 | 682 | 19
Other rockfish | Annual | W/C | 0.1699 | 1,534 | 261
|  | E | 0.0000 | 774 |
Atka mackerel | Annual | Gulfwide | 0.0309 | 2,000 | 62
Big skates | Annual | W | 0.0063 | 908 | 6
|  | C | 0.0063 | 1,850 | 12
|  | E | 0.0063 | 1,056 | 7
Longnose skates | Annual | W | 0.0063 | 61 | 0
|  | C | 0.0063 | 2,513 | 16
|  | E | 0.0063 | 632 | 4
Other skates | Annual | Gulfwide | 0.0063 | 1,919 | 12
Sculpins | Annual | Gulfwide | 0.0063 | 5,591 | 35
Sharks | Annual | Gulfwide | 0.0063 | 4,514 | 28
Squids | Annual | Gulfwide | 0.0063 | 1,148 | 7
Octopuses | Annual | Gulfwide | 0.0063 | 4,878 | 31
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 20 lists the final 2016 and 2017 non-exempt AFA CV halibut PSC limits for vessels using trawl gear in the GOA, respectively. The 2016 and 2017 seasonal apportionments of trawl halibut PSC limits between the deep-water and shallow-water species fisheries categories proportionately incorporate reductions made to the annual trawl halibut PSC limits and associated seasonal apportionments (see Table 14).

Table 20—Final 2016 and 2017 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2016 and 2017 PSC limit | 2016 and 2017 non-exempt AFA CV PSC limit
1 | January 20-April 1 | shallow-water | 0.340 | 384 | 131
|  | deep-water | 0.070 | 85 | 6
2 | April 1-July 1 | shallow-water | 0.340 | 85 | 29
|  | deep-water | 0.070 | 256 | 18
3 | July 1-September 1 | shallow-water | 0.340 | 171 | 58
|  | deep-water | 0.070 | 341 | 24
4 | September 1-October 1 | shallow-water | 0.340 | 128 | 44
|  | deep-water | 0.070 | 0 | 0
5 | October 1-December 31 | all targets | 0.205 | 256 | 52
Total: |  |  |  | 1,706 | 362

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), and Amendment 45 to the Crab FMP (80 FR 28539, May 19, 2015).

Tables 21 and 22 list the final 2016 and 2017 groundfish sideboard limitations for non-AFA crab vessels. All targeted or incidental catch of sideboard species made by non-AFA crab vessels or associated LLP licenses will be deducted from these sideboard limits.

Table 21—Final 2016 GOA Non-American Fisheries Act Crab Vessel Groundfish Harvest Sideboard Limits
[Values are rounded to the nearest metric ton]
Species | Season/gear | Area/component/ gear | Ratio of 1996-2000 non-AFA crab vessel catch to 1996-2000 total harvest | Final 2016 TACs | Final 2016 non-AFA crab vessel sideboard limit
Pollock | A Season, January 20-March 10 | Shumagin (610) | 0.0098 | 3,827 | 38
|  | Chirikof (620) | 0.0031 | 43,374 | 134
|  | Kodiak (630) | 0.0002 | 12,456 | 2
| B Season, March 10-May 31 | Shumagin (610) | 0.0098 | 3,826 | 37
|  | Chirikof (620) | 0.0031 | 50,747 | 157
|  | Kodiak (630) | 0.0002 | 5,083 | 1
| C Season, August 25-October 1 | Shumagin (610) | 0.0098 | 24,421 | 239
|  | Chirikof (620) | 0.0031 | 15,404 | 48
|  | Kodiak (630) | 0.0002 | 19,822 | 4
| D Season, October 1-November 1 | Shumagin (610) | 0.0098 | 24,421 | 239
|  | Chirikof (620) | 0.0031 | 15,402 | 48
|  | Kodiak (630) | 0.0002 | 19,822 | 4
| Annual | WYK (640) | 0.0000 | 9,348 |
|  | SEO (650) | 0.0000 | 9,920 |
Pacific cod | A Season,¹ January 1-June 10 | W Jig | 0.0000 | 17,011 |
|  | W Hook-and-line CV | 0.0004 | 17,011 | 7
|  | W Pot CV | 0.0997 | 17,011 | 1,696
|  | W Pot C/P | 0.0078 | 17,011 | 133
|  | W Trawl CV | 0.0007 | 17,011 | 12
|  | C Jig | 0.0000 | 22,190 |
|  | C Hook-and-line CV | 0.0001 | 22,190 | 2
|  | C Pot CV | 0.0474 | 22,190 | 1,052
|  | C Pot C/P | 0.0136 | 22,190 | 302
|  | C Trawl CV | 0.0012 | 22,190 | 27
| B Season ² | W Jig | 0.0000 | 11,341 |
| Jig Gear: June 10-December 31 | W Hook-and-line CV | 0.0004 | 11,341 | 5
| All other gears: September 1-December 31 | W Pot CV | 0.0997 | 11,341 | 1,131
|  | W Pot C/P | 0.0078 | 11,341 | 88
|  | W Trawl CV | 0.0007 | 11,341 | 8
|  | C Jig | 0.0000 | 14,794 |
|  | C Hook-and-line CV | 0.0001 | 14,794 | 1
|  | C Pot CV | 0.0474 | 14,794 | 701
|  | C Pot C/P | 0.0136 | 14,794 | 201
|  | C Trawl CV | 0.0012 | 14,794 | 18
| Annual | E inshore | 0.0110 | 5,930 | 65
|  | E offshore | 0.0000 | 659 |
Sablefish | Annual, trawl gear | W | 0.0000 | 255 |
|  | C | 0.0000 | 805 |
|  | E | 0.0000 | 190 |
Flatfish, shallow-water | Annual | W | 0.0059 | 13,250 | 78
|  | C | 0.0001 | 19,242 | 2
|  | E | 0.0000 | 4,271 |
Flatfish, deep-water | Annual | W | 0.0035 | 186 | 1
|  | C | 0.0000 | 3,495 |
|  | E | 0.0000 | 5,545 |
Rex sole | Annual | W | 0.0000 | 1,315 |
|  | C | 0.0000 | 4,445 |
|  | E | 0.0000 | 1,733 |
Arrowtooth flounder | Annual | W | 0.0004 | 14,500 | 6
|  | C | 0.0001 | 75,000 | 8
|  | E | 0.0000 | 13,800 |
Flathead sole | Annual | W | 0.0002 | 8,650 | 2
|  | C | 0.0004 | 15,400 | 6
|  | E | 0.0000 | 3,782 |
Pacific ocean perch | Annual | W | 0.0000 | 2,737 |
|  | C | 0.0000 | 17,033 |
|  | E | 0.0000 | 4,667 |
Northern rockfish | Annual | W | 0.0005 | 457 | 0
|  | C | 0.0000 | 3,547 |
Shortraker rockfish | Annual | W | 0.0013 | 38 | 0
|  | C | 0.0012 | 301 | 0
|  | E | 0.0009 | 947 | 1
Dusky rockfish | Annual | W | 0.0017 | 173 | 0
|  | C | 0.0000 | 4,147 |
|  | E | 0.0000 | 366 |
Rougheye rockfish | Annual | W | 0.0067 | 105 | 1
|  | C | 0.0047 | 707 | 3
|  | E | 0.0008 | 516 | 0
Demersal shelf rockfish | Annual | SEO | 0.0000 | 231 |
Thornyhead rockfish | Annual | W | 0.0047 | 291 | 1
|  | C | 0.0066 | 988 | 7
|  | E | 0.0045 | 682 | 3
Other rockfish | Annual | W/C | 0.0033 | 1,534 | 5
|  | E | 0.0000 | 774 |
Atka mackerel | Annual | Gulfwide | 0.0000 | 2,000 |
Big skate | Annual | W | 0.0392 | 908 | 36
|  | C | 0.0159 | 1,850 | 29
|  | E | 0.0000 | 1,056 |
Longnose skate | Annual | W | 0.0392 | 61 | 2
|  | C | 0.0159 | 2,513 | 40
|  | E | 0.0000 | 632 |
Other skates | Annual | Gulfwide | 0.0176 | 1,919 | 34
Sculpins | Annual | Gulfwide | 0.0176 | 5,591 | 98
Sharks | Annual | Gulfwide | 0.0176 | 4,514 | 79
Squids | Annual | Gulfwide | 0.0176 | 1,148 | 20
Octopuses | Annual | Gulfwide | 0.0176 | 4,878 | 86
¹ The Pacific cod A season for trawl gear does not open until January 20.
² The Pacific cod B season for trawl gear closes November 1.

Table 22—Final 2017 GOA Non-American Fisheries Act Crab Vessel Groundfish Harvest Sideboard Limits
[Values are rounded to the nearest metric ton]
Species | Season/gear | Area/component/gear | Ratio of 1996-2000 non-AFA crab vessel catch to 1996- 2000 total harvest | Final 2017 TACs | Final 2017 non-AFA crab vessel sideboard limit
Pollock | A Season, January 20-March 10 | Shumagin (610) Chirikof (620) | 0.0098 0.0031 | 3,769 42,732 | 37 132
|  | Kodiak (630) | 0.0002 | 12,272 | 2
| B Season, March 10-May 31 | Shumagin (610) Chirikof (620) | 0.0098 0.0031 | 3,769 49,996 | 37 155
|  | Kodiak (630) | 0.0002 | 5,007 | 1
| C Season, August 25-October 1 | Shumagin (610) Chirikof (620) | 0.0098 0.0031 | 24,060 15,176 | 236 47
|  | Kodiak (630) | 0.0002 | 19,529 | 4
| D Season, October 1-November 1 | Shumagin (610) Chirikof (620) | 0.0098 0.0031 | 24,060 15,175 | 236 47
|  | Kodiak (630) | 0.0002 | 19,529 | 4
| Annual | WYK (640) | 0.0000 | 9,209 |
|  | SEO (650) | 0.0000 | 9,920 |
Pacific cod | A Season ¹ | W Jig | 0.0000 | 14,699 |
| January 1-June 10 | W Hook-and-line CV | 0.0004 | 14,699 | 6
|  | W Pot CV | 0.0997 | 14,699 | 1,466
|  | W Pot C/P | 0.0078 | 14,699 | 115
|  | W Trawl CV | 0.0007 | 14,699 | 10
|  | C Jig | 0.0000 | 19,175 |
|  | C Hook-and-line CV | 0.0001 | 19,175 | 2
|  | C Pot CV | 0.0474 | 19,175 | 909
|  | C Pot C/P | 0.0136 | 19,175 | 261
|  | C Trawl CV | 0.0012 | 19,175 | 23
| B Season ² | W Jig | 0.0000 | 9,799 |
| Jig Gear: June 10-December 31 | W Hook-and-line CV | 0.0004 | 9,799 | 4
| All other gears: | W Pot CV | 0.0997 | 9,799 | 977
| September 1-December 31 | W Pot C/P | 0.0078 | 9,799 | 76
|  | W Trawl CV | 0.0007 | 9,799 | 7
|  | C Jig | 0.0000 | 12,783 |
|  | C Hook-and-line CV | 0.0001 | 12,783 | 1
|  | C Pot CV | 0.0474 | 12,783 | 606
|  | C Pot C/P | 0.0136 | 12,783 | 174
|  | C Trawl CV | 0.0012 | 12,783 | 15
| Annual | E inshore E offshore | 0.0110 0.0000 | 5,125 569 | 56
Sablefish | Annual, trawl gear | W C E | 0.0000 0.0000 0.0000 | 233 736 173 |
Flatfish, shallow-water | Annual | W C E | 0.0059 0.0001 0.0000 | 13,250 17,680 3,925 | 78 2
Flatfish, deep-water | Annual | W C E | 0.0035 0.0000 0.0000 | 187 3,516 5,578 | 1
Rex sole | Annual | W C E | 0.0000 0.0000 0.0000 | 1,318 4,453 1,736 | -
Arrowtooth flounder | Annual | W C E | 0.0004 0.0001 0.0000 | 14,500 75,000 13,800
Flathead sole | Annual | W C E | 0.0002 0.0004 0.0000 | 8,650 15,400 3,800 | 2 6
Pacific ocean perch | Annual | W C E | 0.0000 0.0000 0.0000 | 2,709 16,860 4,620 |
Northern rockfish | Annual | W C | 0.0005 0.0000 | 430 3,338 | 0
Shortraker rockfish | Annual | W C E | 0.0013 0.0012 0.0009 | 38 301 947 | 0 0 1
Dusky rockfish | Annual | W C E | 0.0017 0.0000 0.0000 | 159 3,791 334 | 0
Rougheye rockfish | Annual | W C E | 0.0067 0.0047 0.0008 | 105 705 515 | 1 3 0
Demersal shelf rockfish | Annual | SEO | 0.0000 | 231 |
Thornyhead rockfish | Annual | W C E | 0.0047 0.0066 0.0045 | 291 988 682 | 1 7 3
Other rockfish | Annual | W/C E | 0.0033 0.0000 | 1,534 774 | 5
Atka mackerel | Annual | Gulfwide | 0.0000 | 2,000 |
Big skate | Annual | W C E | 0.0392 0.0159 0.0000 | 908 1,850 1,056 | 36 29
Longnose skate | Annual | W C E | 0.0392 0.0159 0.0000 | 61 2,513 632 | 2 40
Other skates | Annual | Gulfwide | 0.0176 | 1,919 | 34
Sculpins | Annual | Gulfwide | 0.0176 | 5,591 | 98
Sharks | Annual | Gulfwide | 0.0176 | 4,514 | 79
Squids | Annual | Gulfwide | 0.0176 | 1,148 | 20
Octopuses | Annual | Gulfwide | 0.0176 | 4,878 | 86
¹ The Pacific cod A season for trawl gear does not open until January 20.
² The Pacific cod B season for trawl gear closes November 1.

Rockfish Program Groundfish Sideboard and Halibut PSC Limitations

The Rockfish Program establishes three classes of sideboard provisions: CV groundfish sideboard restrictions, C/P rockfish sideboard restrictions, and C/P opt-out vessel sideboard restrictions. These sideboards are intended to limit the ability of rockfish harvesters to expand into other fisheries.

CVs participating in the Rockfish Program may not participate in directed fishing for dusky rockfish, Pacific ocean perch, and northern rockfish in the West Yakutat district and Western GOA from July 1 through July 31. Also, CVs may not participate in directed fishing for arrowtooth flounder, deep-water flatfish, and rex sole in the GOA from July 1 through July 31 (§ 679.82(d)).

C/Ps participating in Rockfish Program cooperatives are restricted by rockfish and halibut PSC sideboard limits. These C/Ps are prohibited from directed fishing for dusky rockfish, Pacific ocean perch, and northern rockfish in the West Yakutat district and Western GOA from July 1 through July 31. Holders of C/P-designated LLP licenses that opt out of participating in a Rockfish Program cooperative will be able to access that portion of each sideboard limit that is not assigned to rockfish cooperatives. Tables 23 and 24 list the final 2016 and 2017 Rockfish Program C/P sideboard limits in the West Yakutat district and the Western GOA. Due to confidentiality requirements associated with fisheries data, the sideboard limits for the West Yakutat district are not displayed.

Table 23—Final 2016 Rockfish Program Harvest Limits for the Catcher/Processor Sector in the West Yakutat District and Western GOA
[Values are rounded to the nearest metric ton]
Area | Fishery | C/P sector (% of TAC) | Final 2016 TACs | Final 2016 C/P limit
West Yakutat District | Dusky rockfish | Confidential ¹ | 275 | Confidential.¹
| Pacific ocean perch | Confidential ¹ | 2,847 | Confidential.¹
Western GOA | Dusky rockfish | 72.3 | 173 | 125.
| Pacific ocean perch | 50.6 | 2,737 | 1,385.
| Northern rockfish | 74.3 | 457 | 340.
¹ Not released due to confidentiality requirements associated with fish ticket data, as established by NMFS and the State of Alaska.

Table 24—Final 2017 Rockfish Program Harvest Limits for the Catcher/Processor Sector in the West Yakutat District and Western GOA
[Values are rounded to the nearest metric ton]
Area | Fishery | C/P sector (% of TAC) | Final 2017 TACs | Final 2017 C/P limit
West Yakutat District | Dusky rockfish | Confidential ¹ | 251 | Confidential.¹
| Pacific ocean perch | Confidential ¹ | 2,818 | Confidential.¹
Western GOA | Dusky rockfish | 72.3 | 159 | 115.
| Pacific ocean perch | 50.6 | 2,709 | 1,371.
| Northern rockfish | 74.3 | 430 | 319.
¹ Not released due to confidentiality requirements associated with fish ticket data, as established by NMFS and the State of Alaska.

Under the Rockfish Program, the C/P sector is subject to halibut PSC sideboard limits for the trawl deep-water and shallow-water species fisheries from July 1 through July 31. No halibut PSC sideboard limits apply to the CV sector, as vessels participating in cooperatives receive a portion of the annual halibut PSC limit. C/Ps that opt out of the Rockfish Program would be able to access that portion of the deep-water and shallow-water halibut PSC sideboard limit not assigned to C/P rockfish cooperatives. The sideboard provisions for C/Ps that elect to opt out of participating in a rockfish cooperative are described in § 679.82(c), (e), and (f). Sideboard limits are linked to the catch history of specific vessels that may choose to opt out. After March 1, NMFS will determine which C/Ps have opted-out of the Rockfish Program in 2016, and will know the ratios and amounts used to calculate opt-out sideboard ratios. NMFS will then calculate any applicable opt-out sideboards and post these allocations on the Alaska Region Web site at http://alaskafisheries.noaa.gov/fisheries/central-goa-rockfish-program. Table 25 lists the 2016 and 2017 Rockfish Program halibut PSC limits for the C/P sector. These halibut PSC limits proportionately incorporate reductions made to the annual trawl halibut PSC limits and associated season apportionments (see Table 14).

Table 25—Final 2016 and 2017 Rockfish Program Halibut Mortality Limits for the Catcher/Processor Sector
[Values are rounded to the nearest metric ton]
Sector | Shallow-water species fishery halibut PSC sideboard ratio (percent) | Deep-water species fishery halibut PSC sideboard ratio (percent) | 2016 and 2017 halibut mortality limit (mt) | Annual shallow- water species fishery halibut PSC sideboard limit (mt) | Annual deep- water species fishery halibut PSC sideboard limit (mt)
Catcher/processor | 0.10 | 2.50 | 1,706 | 2 | 43

Amendment 80 Program Groundfish and PSC Sideboard Limits

Amendment 80 to the Fishery Management Plan for Groundfish of the Bering Sea and Aleutian Islands Management Area (Amendment 80 Program) established a limited access privilege program for the non-AFA trawl C/P sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the F/V Golden Fleece, to amounts no greater than the limits listed in Table 37 to 50 CFR part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004. Tables 26 and 27 list the final 2016 and 2017 sideboard limits for Amendment 80 Program vessels. NMFS will deduct all targeted or incidental catch of sideboard species made by Amendment 80 Program vessels from the sideboard limits in Tables 26 and 27.

Table 26—Final 2016 GOA Groundfish Sideboard Limits for Amendment 80 Program Vessels
[Values are rounded to nearest metric ton]
Species | Apportionments and allocations by season | Area | Ratio of Amendment 80 sector vessels 1998-2004 catch to TAC | 2016 TAC (mt) | 2016 Amendment 80 vessel sideboards (mt)
Pollock | A Season, January 20-February 25 | Shumagin (610) | 0.003 | 3,827 | 11
|  | Chirikof (620) | 0.002 | 43,374 | 87
|  | Kodiak (630) | 0.002 | 12,456 | 25
| B Season, March 10-May 31 | Shumagin (610) | 0.003 | 3,826 | 11
|  | Chirikof (620) | 0.002 | 50,747 | 101
|  | Kodiak (630) | 0.002 | 5,083 | 10
| C Season, August 25-September 15 | Shumagin (610) | 0.003 | 24,421 | 73
|  | Chirikof (620) | 0.002 | 15,404 | 31
|  | Kodiak (630) | 0.002 | 19,822 | 40
| D Season, October 1-November 1 | Shumagin (610) | 0.003 | 24,421 | 73
|  | Chirikof (620) | 0.002 | 15,402 | 31
|  | Kodiak (630) | 0.002 | 19,822 | 40
| Annual | WYK (640) | 0.002 | 9,348 | 19
Pacific cod | A Season,¹ January 1-June 10 | W | 0.020 | 17,011 | 340
|  | C | 0.044 | 22,190 | 976
| B Season,² September 1-December 31 | W | 0.020 | 11,341 | 227
|  | C | 0.044 | 14,794 | 651
| Annual | WYK | 0.034 | 6,589 | 224
Pacific ocean perch | Annual | W | 0.994 | 2,737 | 2,721
|  | WYK | 0.961 | 2,847 | 2,736
Northern rockfish | Annual | W | 1.000 | 457 | 457
Dusky rockfish | Annual | W | 0.764 | 173 | 132
|  | WYK | 0.896 | 275 | 246
¹ The Pacific cod A season for trawl gear does not open until January 20.
² The Pacific cod B season for trawl gear closes November 1.

Table 27—Final 2017 GOA Groundfish Sideboard Limits for Amendment 80 Program Vessels
[Values are rounded to nearest metric ton]
Species | Apportionments and allocations by season | Area | Ratio of Amendment 80 sector vessels 1998-2004 catch to TAC | 2017 TAC (mt) | 2017 Amendment 80 vessel sideboards (mt)
Pollock | A Season, January 20-February 25 | Shumagin (610) | 0.003 | 3,769 | 11
|  | Chirikof (620) | 0.002 | 42,732 | 85
|  | Kodiak (630) | 0.002 | 12,272 | 25
| B Season, March 10-May 31 | Shumagin (610) | 0.003 | 3,769 | 11
|  | Chirikof (620) | 0.002 | 49,996 | 100
|  | Kodiak (630) | 0.002 | 5,007 | 10
| C Season, August 25-September 15 | Shumagin (610) | 0.003 | 24,060 | 72
|  | Chirikof (620) | 0.002 | 15,176 | 30
|  | Kodiak (630) | 0.002 | 19,529 | 39
| D Season, October 1-November 1 | Shumagin (610) | 0.003 | 24,060 | 72
|  | Chirikof (620) | 0.002 | 15,175 | 30
|  | Kodiak (630) | 0.002 | 19,529 | 39
| Annual | WYK (640) | 0.002 | 9,209 | 18
Pacific cod | A Season,¹ January 1-June 10 | W | 0.020 | 14,699 | 294
|  | C | 0.044 | 19,175 | 844
| B Season,² September 1-December 31 | W | 0.020 | 9,799 | 196
|  | C | 0.044 | 12,783 | 562
| Annual | WYK | 0.034 | 5,694 | 194
Pacific ocean perch | Annual | W | 0.994 | 2,709 | 2,693
|  | WYK | 0.961 | 2,818 | 2,708
Northern rockfish | Annual | W | 1.000 | 430 | 430
Dusky rockfish | Annual | W | 0.764 | 159 | 121
|  | WYK | 0.896 | 251 | 225
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004. These values are slightly lower than the average historic use to accommodate two factors: allocation of halibut PSC cooperative quota under the Central GOA Rockfish Program and the exemption of the F/V Golden Fleece from this restriction (§ 679.92(b)(2)). Table 28 lists the final 2016 and 2017 halibut PSC limits for Amendment 80 Program vessels. These tables incorporate the maximum percentages of the halibut PSC sideboard limits that may be used by Amendment 80 Program vessels as contained in Table 38 to 50 CFR part 679. These halibut PSC limits proportionately incorporate the reductions made to the annual trawl halibut PSC limits and associated seasonal apportionments (see Table 14). Additionally, residual amounts of a seasonal Amendment 80 sideboard halibut PSC limit may carry forward to the next season limit (§ 679.92(b)(2)).

Table 28—Final 2016 and 2017 Halibut PSC Limits for Amendment 80 Program Vessels in the GOA
[Values are rounded to nearest metric ton]
Season | Season dates | Target fishery | Historic Amendment 80 use of the annual halibut PSC limit catch (ratio) | 2016 and 2017 annual PSC limit (mt) | 2016 and 2017 Amendment 80 vessel PSC limit
1 | January 20-April 1 | shallow-water | 0.0048 | 1,706 | 8
|  | deep-water | 0.0115 | 1,706 | 20
2 | April 1-July 1 | shallow-water | 0.0189 | 1,706 | 32
|  | deep-water | 0.1072 | 1,706 | 183
3 | July 1-September 1 | shallow-water | 0.0146 | 1,706 | 25
|  | deep-water | 0.0521 | 1,706 | 89
4 | September 1-October 1 | shallow-water | 0.0074 | 1,706 | 13
|  | deep-water | 0.0014 | 1,706 | 2
5 | October 1-December 31 | shallow-water | 0.0227 | 1,706 | 39
|  | deep-water | 0.0371 | 1,706 | 63
Total |  |  |  |  | 474

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, the Regional Administrator may establish a directed fishing allowance (DFA) for that species or species group. If the Regional Administrator establishes a DFA and that allowance is or will be reached before the end of the fishing year, NMFS will prohibit directed fishing for that species or species group in the specified GOA regulatory area or district (§ 679.20(d)(1)(iii)).

The Regional Administrator has determined that the TACs for the species listed in Table 29 are necessary to account for the incidental catch of these species in other anticipated groundfish fisheries for the 2016 and 2017 fishing years.

Table 29—2016 and 2017 Directed Fishing Closures in the GOA
[Amounts for incidental catch in other directed fisheries are in metric tons]
Target | Area/component/gear | Incidental catch amount and year (if amounts differ by year)
Pollock | all/offshore | not applicable.¹
Sablefish ² | all/trawl | 1,250 (2016), 1,142 (2017).
Pacific cod | Western, catcher/processor, trawl Central, catcher/processor, trawl | 657 (2016), 567 (2017). 1,537 (2016), 1,328 (2017).
Shortraker rockfish ² | all | 1,286.
Rougheye rockfish ² | all | 1,328 (2016). 1,325 (2017).
Thornyhead rockfish ² | all | 1,961.
Other rockfish | all | 2,308.
Atka mackerel | all | 2,000.
Big skate | all | 3,814.
Longnose skate | all | 3,206.
Other skates | all | 1,919.
Sharks | all | 4,514.
Squids | all | 1,148.
Octopuses | all | 4,878.
¹ Pollock is closed to directed fishing in the GOA by the offshore component under § 679.20(a)(6)(i).
² Closures not applicable to participants in cooperatives conducted under the Central GOA Rockfish Program.

Consequently, in accordance with § 679.20(d)(1)(i), the Regional Administrator establishes the DFA for the species or species groups listed in Table 29 as zero mt. Therefore, in accordance with § 679.20(d)(1)(iii), NMFS is prohibiting directed fishing for those species, areas, gear types, and components in the GOA listed in Table 29. These closures will remain in effect through 2400 hrs, A.l.t., December 31, 2017.

Section 679.64(b)(5) provides for management of AFA CV groundfish harvest limits and PSC bycatch limits using directed fishing closures and PSC closures according to procedures set out at §§ 679.20(d)(1)(iv), 679.21(d)(6), and 679.21(e)(3)(v). The Regional Administrator has determined that, in addition to the closures listed above, many of the non-exempt AFA CV sideboard limits listed in Tables 18 and 19 are necessary as incidental catch to support other anticipated groundfish fisheries for the 2016 and 2017 fishing years. In accordance with § 679.20(d)(1)(iv), the Regional Administrator sets the DFAs for the species and species groups in Table 30 at zero mt. Therefore, in accordance with § 679.20(d)(1)(iii), NMFS is prohibiting directed fishing by non-exempt AFA CVs in the GOA for the species and specified areas listed in Table 30. These closures will remain in effect through 2400 hrs, A.l.t., December 31, 2017.

Table 30—2016 and 2017 Non-Exempt AFA CV Sideboard Directed Fishing Closures for All Gear Types in the GOA
[Amounts for incidental catch in other directed fisheries are in metric tons]
Species | Regulatory area/district | Incidental catch amount
Pacific cod | Eastern | 47 (inshore) and 5 (offshore) [2016].
|  | 40 (inshore) and 4 (offshore) [2017].
Shallow-water flatfish | Eastern | 54 in 2016, 49 in 2017.
Deep-water flatfish | Western | 0.
Rex sole | Eastern and Western | 5 and 1.
Arrowtooth flounder | Eastern and Western | 3 and 30.
Flathead sole | Eastern and Western | 3 and 31.
Pacific ocean perch | Western | 6.
Northern rockfish | Western | 0.
Dusky rockfish | Entire GOA | 2.
Demersal shelf rockfish | SEO District | 0.
Sculpins | Entire GOA | 35.
Squids | Entire GOA | 7.

Section 680.22 provides for the management of non-AFA crab vessel sideboards using directed fishing closures in accordance with § 680.22(e)(2) and (3). The Regional Administrator has determined that the non-AFA crab vessel sideboards listed in Tables 21 and 22 are insufficient to support a directed fishery and has set the sideboard DFA at zero mt, with the exception of Pacific cod pot CV sector apportionments in the Western and Central Regulatory Areas. Therefore, NMFS is prohibiting directed fishing by non-AFA crab vessels in the GOA for all species and species groups listed in Tables 21 and 22, with the exception of the Pacific cod pot CV sector apportionments in the Western and Central Regulatory Areas.

Closures implemented under the 2015 and 2016 GOA harvest specifications for groundfish (80 FR 10250, February 25, 2015) remain effective under authority of these final 2016 and 2017 harvest specifications, and are posted at the following Web site: http://alaskafisheries.noaa.gov/infobulletins/search. While these closures are in effect, the maximum retainable amounts at § 679.20(e) and (f) apply at any time during a fishing trip. These closures to directed fishing are in addition to closures and prohibitions found at 50 CFR part 679. NMFS may implement other closures during the 2016 and 2017 fishing years as necessary for effective conservation and management.

Comments and Responses

NMFS received two comment letters containing five substantive comments during the public comment period on the proposed 2016 and 2017 harvest specifications for groundfish of the GOA. No changes were made to this final rule in response to the comment letters received. These comments are summarized and responded to below.

Comment 1: Each commenter expressed general support for the GOA harvest specifications.

Response: NMFS acknowledges these comments.

Comment 2: The removal of catch limits, such as the Pacific cod sideboard limits established for hook-and-line C/Ps, should not be implemented as described in the proposed GOA harvest specifications.

Response: As described in the preamble of this notice and in the proposed 2016 and 2017 harvest specifications for the GOA (80 FR 76405, December 9, 2015), NMFS previously published a final rule implementing regulations associated with Amendment 45 to the FMP for Bering Sea/Aleutian Islands King and Tanner Crabs (Amendment 45) (80 FR 28539, May 19, 2015). Regulations implemented through Amendment 45 directly affect the harvest specifications process for establishing sideboard limits for a specific industry sector. Amendment 45 requires that NMFS permanently remove Pacific cod sideboard limits applicable to specified hook-and-line catcher/processors (C/P) in the Western and Central GOA regulatory areas once it receives an affidavit affirming that all eligible participants in these regulatory areas recommend removal of the sideboard limits. NMFS received an affidavit that all eligible fishery participants in the Western and Central GOA recommend removal of these sideboard limits. By removing the Pacific cod sideboard limits for the hook-and-line C/P sector from Tables 21 and 22 of this rule, NMFS incorporates the regulatory changes made under Amendment 45 into this final rule.

Comment 3: Hook-and-line gear has hazardous effects on local species and ecosystems. For example, if fishing line is lost or improperly discarded in the ocean, it will likely be consumed by a wide variety of animals such as birds, marine mammals, and fish. Because Laysan albatross dive for their prey, increased fishing in hook-and-line fishery may increase the mortality of this species from entanglements.

Response: Hook-and-line gear is a legal gear type in the Gulf of Alaska for Pacific cod and a variety of other species. Hook-and-line gear is authorized under both the FMP (available at http://www.npfmc.org/wp-content/PDFdocuments/fmp/GOA/GOAfmp.pdf) and regulations at 50 CFR part 679. NMFS monitors the catch of all federally-managed groundfish species in the GOA, by gear type, as part of its fisheries monitoring and catch accounting procedures. This catch information is incorporated into the annual SAFE reports prepared to assess the biomass and population trends for groundfish species (see ADDRESSES). The annual SAFE report includes an “Ecosystem Considerations” chapter that describes and discusses the latest trends associated with physical, environmental, ecosystem, and fisheries components of the GOA. The Plan Team, SSC, and Council use this information during the annual harvest specifications as it considers current and future environmental trends that may affect the TAC limits.

NMFS regularly monitors the effects of hook-and-line fisheries and other commercial fisheries on marine mammal stocks. For example, the Marine Mammal Protection Act (MMPA) requires NMFS to review marine mammal stock assessment reports annually for stocks designated as strategic, annually for stocks where there are significant new information available, and at least once every 3 years for all other stocks. Each marine mammal stock assessment includes, when available, estimates of annual human-caused mortality and serious injury from interactions with commercial fisheries and subsistence hunters. These data are used to evaluate the progress of each fishery towards achieving the MMPA's goal of zero fishery-related mortality and serious injury of marine mammals. The most recent (2014) Alaska Marine Mammal stock assessment was released in August 2015 and can be downloaded at http://www.nmfs.noaa.gov/pr/sars/region.htm. In addition, further information on the effects of commercial fisheries can be found in section 5.3.10 of the SIR.

The Alaska Region has been actively addressing seabird incidental take in hook-and-line fisheries off Alaska since 1989. The seabird-related responsibilities and activities include: Consultations under the Endangered Species Act, data collection by fishery observers, public and industry outreach and education, research, regulatory action to employ multiple seabird avoidance measures, and participation in the development of actions to reduce the incidental take of seabirds in Alaska fisheries. NMFS has implemented and revised seabird avoidance measures to mitigate interactions between the federal hook-and-line fisheries and seabirds (see 62 FR 23176, April 29, 1997; 63 FR 1930, January 13, 2004; 72 FR 71610, December 18, 2007; 74 FR 13355, March 27, 2009). Currently, operators of vessels longer than 26 ft LOA using hook-and-line gear are required to comply with regulatory seabird avoidance measures (see 50 CFR 679.24(e)(2). Section 5.3.9 of the SIR notes, 2013 seabird estimated bycatch numbers for the combined groundfish fisheries are the lowest since NMFS began estimating bycatch in 1993 (see also http://www.afsc.noaa.gov/REFM/REEM/Seabirds/Seabird%20bycatch%202007%20to%202013_Alaskan%20Gndfish_Dec2014.pdf).

Comment 4: Hook-and-line fishing will have an effect on average sizes of certain species of fish. For example, hook-and-line gear tends to catch older, larger Pacific cod because smaller fish are unable to be hooked. This leads to a shift in the Pacific cod population dynamic. Smaller fish will prey on smaller organisms such as zooplankton, putting increased pressure on the foundation of the foodweb. Therefore, NMFS should revise the harvest specifications to limit the use of hook-and-line gear.

Response: Pacific cod is a stock fished by multiple gear types. Amendment 83 to the FMP (76 FR 74670, December 1, 2011) implemented regulations on the amounts of the Western and Central GOA Pacific cod TACs allocated to the hook-and-line sectors. Changing the amount of these regulatory allocations for hook-and-line gear is outside the scope of these final 2016 and 2017 harvest specification for the GOA. The Environmental Assessment for Amendment 83 determined that Amendment 83 would not significantly impact the quality of the human environment. In addition, all beneficial and adverse impacts of the proposed action have been addressed to reach the conclusion of no significant impacts (https://alaskafisheries.noaa.gov/sites/default/files/analyses/earirfrfa0911.pdf).

The primary categories of information considered in the stock assessment are catch, abundance, and biology. The catch data includes the gear type and length, the abundance data (biomass and numbers of fish) from surveys includes length and age, and the biological data includes information on fish size, age, reproductive rates, and movement. The effects of using hook-and-line gear is incorporated in the stock assessment and informs NMFS on changes in Pacific cod population dynamics. Also, an evaluation of the effects of the GOA Pacific cod fisheries on the ecosystem is conducted annually in the Ecosystem Considerations chapter and in the groundfish SAFE. The Ecosystems Consideration chapter includes detailed information and updates on the status and trends of ecosystem components, like zooplankton, as well as either early signals of direct human effects on ecosystem components that might warrant management intervention or evidence of the efficacy of previous management actions. Based on the Ecosystem Considerations chapter in the 2015 SAFE report, NMFS concludes that the current GOA Pacific cod fishery does not produce population-level impacts to marine species or change ecosystem-level attributes beyond the range of natural variation.

Comment 5: Trawl fishing should not be allowed in the GOA because of negative environmental consequences such as disturbing non-target species and increased sedimentation in the ocean. Therefore, NMFS should revise the harvest specifications to limit the use of trawl fishing gear.

Response: Trawl gear is a legal gear type in the Gulf of Alaska for a variety of groundfish species. Similar to hook-and-line gear, pelagic and non-pelagic trawl gear are authorized under both the FMP and regulations at 50 CFR part 679.

The Council and NMFS have taken a variety of measures to control the use of trawl gear and the impacts of trawl gear on non-target species and marine habitat. In a recent example, NMFS established a no-trawl protection area in Marmot Bay, northeast of Kodiak Island and required the use of modified nonpelagic trawl gear when fishing for flatfish in the Central Regulatory Area of the GOA (79 FR 2794), January 16, 2014). The Council conducts a complete review of Essential Fish Habitat once every 5 years, and regularly solicits proposals on Habitat Areas of Particular Concern and/or conservation and enhancement measures to minimize potential adverse effects from fishing. More broadly, the Council and NMFS have incorporated habitat provisions set forth in the Magnuson-Stevens Fishery Conservation and Management Act into the FMP (available at http://www.npfmc.org, see Section 4.2).

Classification

NMFS has determined that these final harvest specifications are consistent with the FMP and with the Magnuson-Stevens Act and other applicable laws.

This action is authorized under 50 CFR 679.20 and is exempt from review under Executive Orders 12866 and 13563.

NMFS prepared an EIS for this action (see ADDRESSES) and made it available to the public on January 12, 2007 (72 FR 1512). On February 13, 2007, NMFS issued the Record of Decision (ROD) for the EIS. In January 2015, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The preferred alternative is a harvest strategy in which TACs are set at a level that falls within the range of ABCs recommended by the Council's SSC; the sum of the TACs must achieve the OY specified in the FMP. The SIR evaluates the need to prepare a Supplemental EIS (SEIS) for the 2016 and 2017 groundfish harvest specifications.

An SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2016 and 2017 harvest specifications, which were set according to the preferred harvest strategy in the EIS, do not constitute a substantial change in the action; and (2) there are no significant new circumstances or information relevant to environmental concerns and bearing on the action or its impacts. Additionally, the 2016 and 2017 harvest specifications will result in environmental impacts within the scope of those analyzed and disclosed in the EIS. Therefore, supplemental National Environmental Policy Act documentation is not necessary to implement the 2016 and 2017 harvest specifications.

Section 604 of the Regulatory Flexibility Act requires that, when an agency promulgates a final rule under section 553 of Title 5 of the United States Code, after being required by that section, or any other law, to publish a general notice of proposed rulemaking, the agency shall prepare a final regulatory flexibility analysis (FRFA).

Section 604 describes the required contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping and other compliance requirements of the rule, including an estimate of the classes of small entities which will be subject to the requirement and the type of professional skills necessary for preparation of the report or record; (6) a description of the steps the agency has taken to minimize the significant economic impact on small entities consistent with the stated objectives of applicable statutes, including a statement of the factual, policy, and legal reasons for selecting the alternative adopted in the final rule and why each one of the other significant alternatives to the rule considered by the agency which affect the impact on small entities was rejected.

A description of this action, its purpose, and its legal basis are contained at the beginning of the preamble to this final rule and are not repeated here.

NMFS published the proposed rule on December 9, 2015 (80 FR 76405). NMFS prepared an Initial Regulatory Flexibility Analysis (IRFA) to accompany this action, and included a summary in the proposed rule. The comment period closed on January 8, 2016. No comments were received on the IRFA or the economic impacts of the rule more generally.

The entities directly regulated by this action include (1) entities operating vessels with groundfish FFPs catching FMP groundfish in Federal waters; (2) all entities operating vessels, regardless of whether they hold groundfish FFPs, catching FMP groundfish in the state-waters parallel fisheries; and (3) all entities operating vessels fishing for halibut inside three miles of the shore (whether or not they have FFPs).

The Small Business Administration has established size standards for all major industry sectors in the United States. A business primarily involved in finfish harvesting is classified as a small business if it is independently owned and operated, is not dominant in its field of operation (including its affiliates), and has combined annual gross receipts not in excess of $20.5 million, for all its affiliated operations worldwide. Fishing vessels are considered small entities if their total annual gross receipts, from all their activities combined, are less than $20.5 million. The IRFA estimates the number of harvesting vessels that are considered small entities, but these estimates may overstate the number of small entities because (1) some vessels may also be active as tender vessels in the salmon fishery, fish in areas other than Alaska and the West Coast, or generate revenue from other non-fishing sources; and (2) all affiliations are not taken into account, especially if the vessel has affiliations not tracked in available data (i.e., ownership of multiple vessel or affiliation with processors) and may be misclassified as a small entity.

Based on data from 2014 fishing activity, there were 915 individual catcher vessel entities with gross revenues meeting small entity criteria. Of these entities, 853 used hook-and-line gear, 97 used pot gear, and 34 used trawl gear (some of these entities used more than one gear type, thus the counts of entities using the different gear types do not sum to the total number of entities above). Four individual catcher/processors met the small entity criterion; three used hook-and-line gear, and one used trawl gear. Catcher/processor gross revenues were not reported for confidentiality reasons, however hook-and-line small entities had average gross revenues of $400,000, small pot entities had average gross revenues of $740,000, and small trawl entities had average gross revenues of $2.5 million.

Some of these vessels are members of AFA inshore pollock cooperatives, of GOA rockfish cooperatives, or of Bering Sea and Aleutian Islands crab rationalization cooperatives and, therefore, under the Regulatory Flexibility Act (RFA) it is the aggregate gross receipts of all participating members of the cooperative that must meet the threshold. Vessels that participate in these cooperatives are considered to be large entities within the meaning of the RFA. These relationships are accounted for, along with corporate affiliations among vessels, to the extent that they are known, in the estimated number of small entities. If affiliations exist of which NMFS is unaware, or if entities had non-fishing revenue sources, the estimates above may overstate the number of directly regulated small entities.

This action does not modify recordkeeping or reporting requirements.

NMFS considered other, alternative harvest strategies when choosing the preferred harvest strategy (Alternative 2) in December 2006. These included the following:

• Alternative 1: Set TACs to produce fishing mortality rates, F, that are equal to maxFABC, unless the sum of the TACs is constrained by the OY established in the FMPs. This is equivalent to setting TACs to produce harvest levels equal to the maximum permissible ABCs, as constrained by OY. The term “maxFABC” refers to the maximum permissible value of FABC under Amendment 56 to the groundfish FMPs. Historically, the TAC has been set at or below the ABC, therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TACs would be set to produce harvest levels equal to the most recent 5-year average actual fishing mortality rates. For stocks with insufficient scientific information, TACs would be set equal to the most recent 5-year average actual catch. This alternative recognizes that for some stocks, catches may fall well below ABCs, and recent average F may provide a better indicator of actual F than FABC does.

• Alternative 4: (1) Set TACs for rockfish species in Tier 3 at F75%. Set TACs for rockfish species in Tier 5 at F=0.5M. Set spatially explicit TACs for shortraker and rougheye rockfish in the GOA. (2) Taking the rockfish TACs as calculated above, reduce all other TACs by a proportion that does not vary across species, so that the sum of all TACs, including rockfish TACs, is equal to the lower bound of the area OY (116,000 mt in the GOA). This alternative sets conservative and spatially explicit TACs for rockfish species that are long-lived and late to mature and sets conservative TACs for the other groundfish species.

• Alternative 5: (No Action) Set TACs at zero.

These four alternatives do not meet the objectives of this action although they have a smaller adverse economic impact on small entities than the preferred alternative. The Council rejected these alternatives as harvest strategies in 2006, and the Secretary did so in 2007.

Alternative 1 selected harvest rates that will allow fishermen to harvest stocks at the level of ABCs, unless total harvests are constrained by the upper bound of the GOA OY of 800,000 metric tons. The sums of ABCs in 2016 and 2017 are 727,684 mt and 708,629 mt, respectively. The sums of the TACs in 2016 and 2017 are 590,809 mt and 573,872 mt, respectively. Thus, although the sum of ABCs in each year is less than 800,000 metric tons, the sums of the TACs in each year are less than the sums of the ABCs.

In most cases, the Council has set TACs equal to ABCs. The divergence between aggregate TACs and aggregate ABCs reflects a variety of special species- and fishery-specific circumstances:

• Pacific cod TACs are set equal to 70 percent in the Western GOA and 75 percent in the Central GOA of the Pacific cod ABCs in each year to account for the guideline harvest levels (GHL) set by the State of Alaska for its GHL Pacific cod fisheries (30 and 25 percent, respectively, of the Western and Central GOA ABCs). Thus, the difference between the Federal TACs and ABCs does not actually reflect a Pacific cod harvest below the Pacific cod ABC, as the balance is available for the State's cod GHL fisheries.

• Shallow-water flatfish and flathead sole TACs are set below ABCs in the Western and Central GOA regulatory areas. Arrowtooth flounder TACs are set below ABC in all GOA regulatory areas. Catches of these flatfish species rarely, if ever, approach the proposed ABCs or TACs. Important trawl fisheries in the GOA take halibut PSC, and are constrained by limits on the allowable halibut PSC mortality. These limits may force the closure of trawl fisheries before they have harvested the available groundfish ABC. Thus, actual harvests of groundfish in the GOA routinely fall short of some ABCs and TACs. Markets can also constrain harvests below the TACs, as has been the case with arrowtooth flounder, in the past. These TACs are set to allow for increased harvest opportunities for these targets while conserving the halibut PSC limit for use in other, more fully utilized, fisheries.

• The other rockfish TAC is set below the ABC in the Southeast Outside district based on several factors. In addition to conservation concerns for the rockfish species in this group, there is a regulatory prohibition against using trawl gear east of 140° W. longitude. Because most species of other rockfish are caught exclusively with trawl gear, the catch of such species with other gear types, such as hook-and-line, is low. The commercial catch of other rockfish in the Eastern regulatory area, which includes the West Yakutat and Southeast Outside districts, has ranged from approximately 70 mt to 248 mt per year over the last decade.

• The GOA-wide Atka mackerel TAC is set below the ABC. The estimates of survey biomass continue to be unreliable in the GOA. Therefore, the Council recommended and NMFS agrees that the Atka mackerel TAC in the GOA be set at an amount to support incidental catch in other directed fisheries.

Alternative 3 selects harvest rates based on the most recent 5 years of harvest rates (for species in Tiers 1 through 3) or for the most recent 5 years of harvests (for species in Tiers 4 through 6). This alternative is inconsistent with the objectives of this action, because it does not take account of the most recent biological information for this fishery.

Alternative 4 would lead to significantly lower harvests of all species to reduce TACs from the upper end of the OY range in the GOA to its lower end of 116,000 mt. Overall, this would reduce 2016 TACs by about 80 percent. This would lead to significant reductions in harvests of species by small entities. While production declines in the GOA would undoubtedly be associated with price increases in the GOA, these increases would still be constrained by the availability of substitutes, and are very unlikely to offset revenue declines from smaller production. Thus, this action would have a detrimental economic impact on small entities.

Alternative 5, which sets all harvests equal to zero, may also address conservation issues, but would have a significant adverse economic impact on small entities.

Impacts on marine mammals resulting from fishing activities conducted under this rule are discussed in the EIS and SIR (see ADDRESSES).

Pursuant to 5 U.S.C. 553(d)(3), the Assistant Administrator for Fisheries, NOAA, finds good cause to waive the 30-day delay in effectiveness for this rule because delaying this rule would be contrary to the public interest. The Plan Team review occurred in November 2015, and Council consideration and recommendations occurred in December 2015. Accordingly, NMFS' review could not begin until January 2016. For all fisheries not currently closed because the TACs established under the final 2015 and 2016 harvest specifications (80 FR 10250, February 25, 2015) were not reached, it is possible that they would be closed prior to the expiration of a 30-day delayed effectiveness period, because their TACs could be reached within that period. If implemented immediately, this rule would allow these fisheries to continue because the new TACs implemented by this rule are higher than the ones under which they are currently fishing.

Certain fisheries, such as those for pollock and Pacific cod, are intensive, fast-paced fisheries. Other fisheries, such as those for sablefish, flatfish, rockfish, Atka mackerel, skates, sculpins, sharks, squids, and octopuses, are critical as directed fisheries and as incidental catch in other fisheries. U.S. fishing vessels have demonstrated the capacity to catch the TAC allocations in many of these fisheries. If this rule allowed for a 30-day delay in effectiveness and if a TAC were reached during those 30 days, NMFS would close directed fishing or prohibit retention for the applicable species. Any delay in allocating the final TACs in these fisheries would cause confusion to the industry and potential economic harm through unnecessary discards, thus undermining the intent of this rule. Waiving the 30-day delay allows NMFS to prevent economic loss to fishermen that could otherwise occur should the 2016 TACs be reached. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboard limits, a failure to implement the updated sideboard limits before initial season's end could deny the intended economic protection to the non-sideboarded sectors. Conversely, in fisheries with increasing sideboard limits, economic benefit could be denied to the sideboard limited sectors.

If the final harvest specifications are not effective by March 19, 2016, which is the start of the 2016 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2016 and 2017 harvest specifications will allow the sablefish IFQ fishery to begin concurrently with the Pacific halibut IFQ season.

In addition, the immediate effectiveness of this action is required to provide consistent management and conservation of fishery resources based on the best available scientific information. This is particularly true for those species that have lower 2016 ABCs and TACs than those established in the 2015 and 2016 harvest specifications (80 FR 10250, February 25, 2015). Immediate effectiveness also would give the fishing industry the earliest possible opportunity to plan and conduct its fishing operations with respect to new information about TACs. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2016 and 2017 harvest specifications and prohibited species bycatch allowances for the groundfish fisheries of the GOA. This action is necessary to establish harvest limits and associated management measures for groundfish during the 2016 and 2017 fishing years, and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: March 14, 2016.
Samuel D. Rauch III,
Deputy Assistant Administrator for Regulatory Programs, National Marine Fisheries Service.

[FR Doc. 2016-06183 Filed 3-17-16; 8:45 am]

BILLING CODE 3510-22-P